DEPARTMENT OF HOMELAND SECURITY

Customs and Border Protection

Distribution of Continued Dumping and Subsidy Offset to Affected Domestic Producers

AGENCY: Customs and Border Protection, Department of Homeland Security.

ACTION: Notice of intent to distribute offset for fiscal year 2004.

SUMMARY: Pursuant to the Continued Dumping and Subsidy Offset Act of 2000, this document is U.S. Customs and Border Protection's notice of intention to distribute assessed antidumping or countervailing duties (known as the continued dumping and subsidy offset) for Fiscal Year 2004 in connection with antidumping duty orders or findings or countervailing duty orders. This document sets forth the list of individual antidumping duty orders or findings and countervailing duty orders, together with the affected domestic producers associated with each order or finding who are potentially eligible to receive a distribution. This document also provides the instructions for affected domestic producers to file written certifications to claim a distribution in relation to the listed orders or findings.

DATES: Written certifications to obtain a continued dumping and subsidy offset under a particular order or finding must be received by August 2, 2004.

ADDRESSES: Written certifications and any other correspondence should be addressed to the Assistant Commissioner, Office of Finance, U.S. Customs and Border Protection, National Finance Center, Attention: Sarah Buelo, P.O. Box 68940, Indianapolis, IN, 46268. Any delivery by an express or courier service requiring a street address may be addressed to 6026 Lakeside Blvd., Indianapolis, IN, 46278.

FOR FURTHER INFORMATION CONTACT: For questions regarding certifications, contact Sarah Buelo, National Finance Center, (317) 614-4462. For questions regarding legal aspects, contact L. LaToya Burley, Office of Regulations and Rulings, (202) 572-8793.

SUPPLEMENTARY INFORMATION:

Background

The Continued Dumping and Subsidy Offset Act of 2000 (CDSOA) was enacted on October 28, 2000, as part of the Agriculture, Rural Development, Food and Drug Administration, and Related Agencies Appropriations Act, 2001 (“Act”). The provisions of the CDSOA are contained in title X (sections 1001-1003) of the Act.

The CDSOA, in section 1003 of the Act, amended title VII of the Tariff Act of 1930, by adding a new section 754 (codified at 19 U.S.C. 1675c) in order to provide that assessed duties received pursuant to a countervailing duty order, an antidumping duty order, or an antidumping duty finding under the Antidumping Act of 1921 must be distributed to affected domestic producers for certain qualifying expenditures that these producers incur after the issuance of such an order or finding. The term “affected domestic producer” means any manufacturer, producer, farmer, rancher or worker representative (including associations of such persons) that:

(A) was a petitioner or interested party in support of a petition with respect to which an antidumping order, a finding under the Antidumping Act of 1921, or a countervailing duty order has been entered, and

(B) remains in operation.

The distribution that these parties may receive is known as the continued dumping and subsidy offset.

List of Orders or Findings and Affected Domestic Producers

It is the responsibility of the U.S. International Trade Commission (USITC) to ascertain and timely forward to U.S. Customs and Border Protection (CBP) a list of the affected domestic producers that are potentially eligible to receive an offset in connection with an order or finding.

To this end, it is noted that the USITC has supplied CBP with the list of individual antidumping and countervailing duty cases, and the affected domestic producers associated with each case that are potentially eligible to receive an offset. This list appears at the end of this document.

CBP Regulations Implementing the CDSOA

It is noted that CBP published a final rule in the Federal Register (66 FR 48546) on September 21, 2001, as T.D. 01-68, which was effective as of that date, in order to implement the CDSOA. The final rule added a new subpart F to part 159 of the CBP Regulations (19 CFR part 159, subpart F (§§ 159.61—159.64)).

Notice of Intent To Distribute Offset

This document announces that CBP intends to distribute to affected domestic producers the assessed antidumping or countervailing duties that are available for distribution in Fiscal Year 2004 in connection with those antidumping duty orders or findings or countervailing duty orders that are listed in this document. Section 159.62(a), CBP Regulations (19 CFR 159.62(a)), provides that CBP will publish such a notice of intention to distribute assessed duties at least 90 days before the end of a fiscal year.

Certifications; Submission and Content

To obtain a distribution of the offset under a given order or finding, an affected domestic producer must submit a certification to CBP indicating that the producer desires to receive a distribution.

As required by § 159.62(b), CBP Regulations (19 CFR 159.62(b)), this notice provides the case name and number of the order or finding concerned, as well as the specific instructions for filing a certification under § 159.63 to claim a distribution. Section 159.62(b) also provides that the dollar amounts subject to distribution that were contained in the Special Account for each listed order or finding would appear in this notice. However, these dollar amounts were not available in time for inclusion in this publication. The preliminary amounts will be posted on the CBP Web site (http://www.cbp.gov), for purposes of enabling affected domestic producers to determine whether it would be worthwhile to file a certification in a given case. The final amounts available for disbursement may be higher or lower than the preliminary amounts.

A successor to a company appearing on the list of affected domestic producers in this notice, or a member company of an association that appears on the list of affected domestic producers in this notice where the member company does not appear on the list, should consult §§ 159.61(b)(1)(i) or 159.61(b)(1)(ii), CBP Regulations (19 CFR 159.61(b)(1)(i) or 159.61(b)(1)(ii)) and see the note that appears at the end of this document regarding Candle Corporation of America.

Specifically, to obtain a distribution of the offset under a given order or finding, each affected domestic producer must timely submit a certification containing the required information detailed below as to the eligibility of the producer to receive the requested distribution and the total amount of the distribution that the producer is claiming. Certifications should be submitted to the Assistant Commissioner, Office of Finance, National Finance Center. The certification must enumerate the qualifying expenditures incurred by the domestic producer since the issuance of an order or finding and it must demonstrate that the domestic producer is eligible to receive a distribution as an affected domestic producer.

As provided in § 159.63(a), CBP Regulations (19 CFR 159.63(a)), certifications to obtain a distribution of an offset must be received by CBP no later than 60 days after the date of publication of the notice of intent in the Federal Register. A list of all certifications received will be published on the CBP Web site shortly after the receipt deadline. This publication will not confirm acceptance or validity of the certification, but merely receipt of the certification.

While there is no established format for a certification, the certification must contain the following information:

1. The date of this Federal Register notice;

2. The Commerce case number;

3. The case name (product/country);

4. The name of the domestic producer and any name qualifier, if applicable (for example, any other name under which the domestic producer does business or is also known);

5. The address of the domestic producer (if a post office box, the secondary street address must also appear) including, if applicable, a specific room number or department;

6. The Internal Revenue Service (IRS) number (with suffix) of the domestic producer, employer identification number, or social security number, as applicable;

7. The specific business organization of the domestic producer (corporation, partnership, sole proprietorship);

8. The name(s) of any individual(s) designated by the domestic producer as the contact person(s) concerning the certification, together with the phone number(s) and/or facsimile transmission number(s) and electronic mail (e-mail) address(es) for the person(s);

9. The total dollar amount claimed;

10. The dollar amount claimed by category, as described in the section below entitled “Amount Claimed for Distribution”;

11. A statement of eligibility, as described in the section below entitled “Eligibility to Receive Distribution”; and

12. A signature by a corporate officer legally authorized to bind the producer.

Qualifying Expenditures Which May Be Claimed for Distribution

Qualifying expenditures which may be offset by a distribution of assessed antidumping and countervailing duties encompass those expenditures that are incurred after the issuance of an antidumping duty order or finding or a countervailing duty order, and prior to its termination, provided that such expenditures fall within any of the following categories: (1) Manufacturing facilities; (2) Equipment; (3) Research and development; (4) Personnel training; (5) Acquisition of technology; (6) Health care benefits for employees paid for by the employer; (7) Pension benefits for employees paid for by the employer; (8) Environmental equipment, training, or technology; (9) Acquisition of raw materials and other inputs; and (10) Working capital or other funds needed to maintain production.

Amount Claimed for Distribution

In calculating the amount of the distribution being claimed as an offset, the certification must indicate: (1) The total amount of any qualifying expenditures currently and previously certified by the domestic producer, and the amount certified by category; (2) The total amount of those expenditures which have been the subject of any prior distribution under 19 U.S.C. 1675c; and (3) The net amount for new and remaining qualifying expenditures being claimed in the current certification (the total amount currently and previously certified as noted in item “(1)” above minus the total amount that was the subject of any prior distribution as noted in item “(2)” above). In accordance with 19 CFR 159.63(b)(2)(i)—(b)(2)(iii), CBP will deduct the amount of any prior distribution from the producer's claimed amount for that case. Total amounts disbursed by CBP under the CDSOA for Fiscal Year 2001, 2002 and 2003 are available on the CBP website.

Additionally, under 19 CFR 159.61(c), these qualifying expenditures must be related to the production of the same product that is the subject of the order or finding, with the exception of expenses incurred by associations which must relate to a specific case.

Eligibility To Receive Distribution

As noted, the certification must contain a statement that the domestic producer desires to receive a distribution and is eligible to receive the distribution as an affected domestic producer. Also, the domestic producer must affirm that the net amount certified for distribution does not encompass any qualifying expenditures for which distribution has previously been made (19 CFR 159.63(b)(3)(i)).

Furthermore, under § 159.63(b)(3)(ii), CBP Regulations (19 CFR 159.63(b)(3)(ii), where a party is listed as an affected domestic producer on more than one order or finding covering the same product and files a separate certification for each order or finding using the same qualifying expenditures as the basis for distribution in each case, each certification must list all the other orders or findings where the producer is claiming the same qualifying expenditures.

Moreover, as required by 19 U.S.C. 1675c(b)(1) and § 159.63(b)(3)(iii), CBP Regulations (19 CFR 159.63(b)(3)(iii)), the statement must include information as to whether the domestic producer remains in operation and continues to produce the product covered by the particular order or finding under which the distribution is sought. If a domestic producer is no longer in operation, or no longer produces the product covered by the order or finding, the producer will not be considered an affected domestic producer entitled to receive a distribution.

In addition, as required by 19 U.S.C. 1675c(b)(5) and § 159.63(b)(3)(iii), CBP Regulations (19 CFR 159.63(b)(3)(iii), the domestic producer must state whether it has been acquired by a company or business that is related to a company that opposed the antidumping or countervailing duty investigation that resulted in the order or finding under which the distribution is sought. If a domestic producer has been so acquired, the producer will not be considered an affected domestic producer entitled to receive a distribution.

The certification must be executed and dated by a party legally authorized to bind the domestic producer and it must state that the information contained in the certification is true and accurate to the best of the certifier's knowledge and belief under penalty of law, and that the domestic producer has records to support the qualifying expenditures being claimed (see section below entitled “Verification of Certification”).

Review and Correction of Certification

A certification that is submitted in response to this notice of distribution may be reviewed before acceptance to ensure that all informational requirements are complied with and that any amounts set forth in the certification for qualifying expenditures, including the amount claimed for distribution, appear to be correct. A certification that is found to be materially incorrect or incomplete will be returned to the domestic producer as provided in § 159.63(c), CBP Regulations (19 CFR 159.63(c)). It is the sole responsibility of the domestic producer to ensure that the certification is correct, complete and satisfactory so as to demonstrate the entitlement of the domestic producer to the distribution requested. Failure to ensure that the certification is correct, complete and satisfactory will result in the domestic producer not receiving a distribution.

Verification of Certification

Certifications are subject to CBP's verification. Therefore, parties are required to maintain records supporting their claims for a period of five years after the filing of the certification (see § 159.63(d), CBP Regulations (19 CFR 159.63(d))). The records must be those that are normally kept in the ordinary course of business. The records must support each qualifying expenditure enumerated in the certification and they must support how the qualifying expenditures are determined to be related to the production of the product covered by the order or finding.

Disclosure of Information in Certifications; Acceptance by Producer

The name of the affected domestic producer, the total dollar amount claimed by that party on the certification, as well as the total dollar amount that CBP actually disburses to that company as an offset, will be available for disclosure to the public, as specified in § 159.63(e), CBP Regulations (19 CFR 159.63(e)). To this extent, the submission of the certification is construed as an understanding and acceptance on the part of the domestic producer that this information will be disclosed to the public. Alternatively, a statement in a certification that this information is proprietary and exempt from disclosure will result in CBP's rejection of the certification.

List of Orders or Findings and Related Domestic Producers

The list of individual antidumping duty orders or findings and countervailing duty orders is set forth below, together with the affected domestic producers associated with each order or finding that are potentially eligible to receive an offset.

Note Regarding Candle Corporation of America and Blyth, Inc. v. United States

On April 8, 2003, the U.S. Court of International Trade (CIT) issued a decision concerning a successor company claim for a distribution under the Continued Dumping and Subsidy Offset Act of 2000 (CDSOA), 19 U.S.C. 1675c. Candle Corporation of America and Blyth, Inc. v. United States, No. 02-00751 Slip Op. 03-40 (Ct. Int'l Trade Apr. 8, 2003), appeal docketed, No. 03-1348 (Fed. Cir. April 28, 2003). The CIT found that the Candle Corporation of America (CCA) response to a 1986 ITC questionnaire “clearly indicates that CCA did not support the petition.” Slip Op at 13. The CIT reasoned that, although 19 CFR 159.61(b)(1)(i) permits a “successor company” to file a certification to claim an offset on behalf of its predecessor, the “eligibility for certification under the regulation is subject to the limitations imposed by 19 U.S.C. 1675c, which requires that a claimant (1) have [petitioned] or supported the petition, and (2) remain in operation.” Consequently, the CIT held that it was not arbitrary, capricious, an abuse of discretion or otherwise contrary to law for CBP to deny CCA's claim.

An appeal to the Federal Circuit has been filed. A final decision may affect future distributions. Assuming an appeal remains pending, CBP may withhold future distributions to affected companies.

Dated: May 25, 2004.
Jo Cohen,
Acting Assistant Commissioner, Office of Finance.

Commerce case No. | Commission case No. | Product/country | Petitioners/supporters
A-588-028 | AA1921-111 | Roller chain/Japan | American Chain Association. Acme Chain Division, North American Rockwell. Atlas Chain & Precision Products. Diamond Chain.
|  |  | Link-Belt Chain Division, FMC. Morse Chain Division, Borg Warner. Rex Chainbelt.
A-401-040 | AA1921-114 | Stainless steel plate/Sweden | Jessop Steel.
A-588-041 | AA1921-115 | Synthetic methionine/Japan | Monsanto.
A-588-046 | AA1921-129 | Polychloroprene rubber/Japan | E.I. du Pont de Nemours.
A-122-047 | AA1921-127 | Elemental sulphur/Canada. | Duval.
A-588-056 | AA1921-162 | Melamine/Japan | Melamine Chemical.
A-475-059 | AA1921-167 | Pressure-sensitive plastic tape/Italy | Minnesota Mining & Manufacturing.
A-588-068 | AA1921-188 | Prestressed concrete steel wire strand/Japan | American Spring Wire. Armco Steel. Bethlehem Steel. CF&I Steel. Florida Wire & Cable.
|  |  | No petition at the Commission; Commerce service list identifies: U.S. Beet Sugar Association. Florida Sugar Marketing and Terminal Association. American Sugar Cane League. American Sugarbeet Growers Association.
|  |  | Florida Sugar Cane League. Rio Grande Valley Sugar Growers Association. Michigan Sugar. Amstar Sugar.
C-408-046 | 104-TAA-7 | Sugar/EU | Sugar Cane Growers Cooperative of Florida. Alexander & Baldwin. Michigan Farm Bureau. H&R Brokerage. Talisman Sugar. American Farm Bureau Federation. Leach Farms. A.J. Yates.
|  |  | Hawaiian Agricultural Research Center. United States Beet Sugar Association. United States Cane Sugar Refiners' Association.
A-423-077 | AA1921-198 | Sugar/Belgium | Florida Sugar Marketing and Terminal Association.
A-427-078 | AA1921-199 | Sugar/France | Florida Sugar Marketing and Terminal Association.
A-428-082 | AA1921-200 | Sugar/Germany | Florida Sugar Marketing and Terminal Association.
A-122-085 | 731-TA-3 | Sugar and syrups/Canada | Amstar Sugar.
A-427-098 | 731-TA-25 | Anhydrous sodium metasilicate/France | PQ.
A-427-001 | 731-TA-44 | Sorbitol/France | Lonza. Pfizer.
A-570-007 | 731-TA-149 | Barium chloride/China | Chemical Products.
A-570-101 | 731-TA-101 | Greige polyester cotton printcloth/China | Alice Manufacturing. Clinton Mills. Dan River. Greenwood Mills. Hamrick Mills. M. Lowenstein. Mayfair Mills. Mount Vernon Mills.
C-357-004 | 701-TA-A | Carbon steel wire rod/Argentina | Atlantic Steel. Continental Steel. Georgetown Steel. North Star Steel. Raritan River Steel.
A-357-007 | 731-TA-157 | Carbon steel wire rod/Argentina | Atlantic Steel. Continental Steel. Georgetown Steel. North Star Steel. Raritan River Steel.
A-469-007 | 731-TA-126 | Potassium permanganate/Spain | Carus Chemical.
A-570-001 | 731-TA-125 | Potassium permanganate/China | Carus Chemical.
A-570-002 | 731-TA-130 | Chloropicrin/China | LCP Chemicals & Plastics. Niklor Chemical.
C-533-063 | 303-TA-13 | Iron metal castings/India | Campbell Foundry. Le Baron Foundry. Municipal Castings. Neenah Foundry. Pinkerton Foundry. U.S. Foundry & Manufacturing. Vulcan Foundry.
A-122-503 | 731-TA-263 | Iron construction castings/Canada | Alhambra Foundry. Allegheny Foundry. Bingham & Taylor. Campbell Foundry. Charlotte Pipe & Foundry. Deeter Foundry. East Jordan Foundry. Le Baron Foundry.
|  |  | Municipal Castings. Neenah Foundry. Opelika Foundry. Pinkerton Foundry. Tyler Pipe. U.S. Foundry & Manufacturing. Vulcan Foundry.
A-351-503 | 731-TA-262 | Iron construction castings/Brazil | Alhambra Foundry. Allegheny Foundry. Bingham & Taylor. Campbell Foundry. Charlotte Pipe & Foundry. Deeter Foundry. East Jordan Foundry. Le Baron Foundry.
|  |  | Municipal Castings. Neenah Foundry. Opelika Foundry. Pinkerton Foundry. Tyler Pipe. U.S. Foundry & Manufacturing. Vulcan Foundry.
A-570-502 | 731-TA-265 | Iron construction castings/China | Alhambra Foundry. Allegheny Foundry. Bingham & Taylor. Campbell Foundry. Charlotte Pipe & Foundry. Deeter Foundry. East Jordan Foundry. Le Baron Foundry.
|  |  | Municipal Castings. Neenah Foundry. Opelika Foundry. Pinkerton Foundry. Tyler Pipe. U.S. Foundry & Manufacturing. Vulcan Foundry.
|  |  | Alhambra Foundry. Allegheny Foundry. Bingham & Taylor. Campbell Foundry. Charlotte Pipe & Foundry. Deeter Foundry. East Jordan Foundry.
C-351-504 | 701-TA-249 | Heavy iron construction castings/Brazil | Le Baron Foundry. Municipal Castings. Neenah Foundry. Opelika Foundry. Pinkerton Foundry. Tyler Pipe. U.S. Foundry & Manufacturing. Vulcan Foundry.
A-351-605 | 731-TA-326 | Frozen concentrated orange juice/Brazil | Alcoma Packing. B&W Canning. Berry Citrus Products. Caulkins Indiantown Citrus. Citrus Belle. Citrus World. Florida Citrus Mutual.
A-570-825 | 731-TA-653 | Sebacic acid/China | Union Camp.
C-122-404 | 701-TA-224 | Live swine/Canada | National Pork Producers Council. Wilson Foods.
A-357-405 | 731-TA-208 | Barbed wire and barbless wire strand/Argentina | CF&I Steel. Davis Walker. Forbes Steel & Wire. Oklahoma Steel Wire.
A-570-501 | 731-TA-244 | Natural bristle paint brushes/China | Baltimore Brush. Bestt Liebco. Elder & Jenks. EZ Paintr. H&G Industries. Joseph Lieberman & Sons. Purdy. Rubberset. Thomas Paint Applicators. Wooster Brush.
A-570-003 | 731-TA-103 | Cotton shop towels/China | Milliken. Texel Industries. Wikit.
C-535-001 | 701-TA-202 | Cotton shop towels/Pakistan | Milliken.
C-333-401 | 701-TA-E | Cotton shop towels/Peru | No case at the Commission; Commerce service list identifies: Durafab. Kleen-Tex Industries. Pavis & Harcourt. Lewis Eckert Robb. Milliken.
A-538-802 | 731-TA-514 | Cotton shop towels/Bangladesh | Milliken.
A-570-504 | 731-TA-282 | Petroleum wax candles/China | The A..I. Root Company. Candle Artisans, Inc. Candle-Lite. Cathedral Candle. Colonial Candle of Cape Cod. General Wax & Candle. Lenox Candles.
|  |  | Lumi-Lite Candle. Meuch-Kreuzer Candle. National Candle Association. Will & Baumer. WNS.
A-588-045 | AA1921-124 | Steel wire rope/Japan | AMSTED Industries.
A-201-806 | 731-TA-547 | Carbon steel wire rope/Mexico | Bridon American. Macwhyte. Paulsen Wire Rope. The Rochester Corporation. Williamsport. Wire-rope Works. Wire Rope Corporation of America. United Automobile, Aerospace and Agricultural Implement Workers (Local 960).
A-580-811 | 731-TA-546 | Carbon steel wire rope/Korea | Bridon American. Macwhyte Paulsen Wire Rope The Rochester Corporation Williamsport Wire-rope Works Wire Rope Corporation of America United Automobile, Aerospace and Agricultural Implement Workers (Local 960).
A-351-505 | 731-TA-278 | Malleable cast iron pipe fittings/Brazil | Stanley G. Flagg. Grinnell. Stockham Valves & Fittings. U-Brand. Ward Manufacturing.
A-580-507 | 731-TA-279 | Malleable cast iron pipe fittings/Korea | Stanley G. Flagg. Grinnell. Stockham Valves & Fittings. U-Brand. Ward Manufacturing.
A-583-507 | 731-TA-280 | Malleable cast iron pipe fittings/Taiwan | Stanley G. Flagg. Grinnell. Stockham Valves & Fittings. U-Brand. Ward Manufacturing.
A-588-605 | 731-TA-347 | Malleable cast iron pipe fittings/ Japan | Stanley G. Flagg. Grinnell. Stockham Valves & Fittings. U-Brand. Ward Manufacturing.
A-549-601 | 731-TA-348 | Malleable cast iron pipe fittings/ Thailand | Stanley G. Flagg. Grinnell. Stockham Valves & Fittings. U-Brand. Ward Manufacturing.
A-570-506 | 731-TA-298 | Porcelain-on-steel cooking ware/ China | General Housewares.
A-201-504 | 731-TA-297 | Porcelain-on-steel cooking ware/ Mexico | General Housewares.
A-583-508 | 731-TA-299 | Porcelain-on-steel cooking ware/ Taiwan | General Housewares.
C-201-505 | 701-TA-265 | Porcelain-on-steel cooking ware/ Mexico | General Housewares.
A-580-601 | 731-TA-304 | Top-of-the-stove stainless steel cooking ware/Korea | Farberware. Regal Ware. Revere Copper & Brass. WearEver/Proctor Silex.
C-580-602 | 701-TA-267 | Top-of-the-stove stainless steel cooking ware/Korea | Farberware. Regal Ware. Revere Copper & Brass. WearEver/Proctor Silex.
A-583-603 | 731-TA-305 | Top-of-the-stove stainless steel cooking ware/Taiwan | Farberware. Regal Ware. Revere Copper & Brass. WearEver/Proctor Silex.
C-583-604 | 701-TA-268 | Top-of-the-stove stainless steel cooking ware/Taiwan | Farberware. Regal Ware. Revere Copper & Brass. WearEver/Proctor Silex.
C-351-604 | 701-TA-269 | Brass sheet and strip/Brazil | American Brass. Bridgeport Brass. Chase Brass & Copper. Hussey Copper. The Miller Company. Olin. Revere Copper Products.
|  |  | Allied Industrial Workers of America. International Association of Machinists & Aerospace Workers. Mechanics Educational Society of America (Local 56). United Steelworkers of America.
A-351-603 | 731-TA-311 | Brass sheet and strip/Brazil | American Brass. Bridgeport Brass. Chase Brass & Copper. Hussey Copper. The Miller Company. Olin. Revere Copper Products.
|  |  | Allied Industrial Workers of America. International Association of Machinists & Aerospace Workers. Mechanics Educational Society of America (Local 56). United Steelworkers of America.
A-122-601 | 731-TA-312 | Brass sheet and strip/Canada | American Brass. Bridgeport Brass. Chase Brass & Copper. Hussey Copper. The Miller Company. Olin. Revere Copper Products.
|  |  | Allied Industrial Workers of America. International Association of Machinists & Aerospace Workers. Mechanics Educational Society of America (Local 56). United Steelworkers of America.
A-580-603 | 731-TA-315 | Brass sheet and strip/Korea | American Brass. Bridgeport Brass. Chase Brass & Copper. Hussey Copper. The Miller Company. Olin.
|  |  | Revere Copper Products. Allied Industrial Workers of America. International Association of Machinists & Aerospace Workers. Mechanics Educational Society of America (Local 56). United Steelworkers of America.
A-427-602 | 731-TA-313 | Brass sheet and strip/France | American Brass. Bridgeport Brass. Chase Brass & Copper. Hussey Copper. The Miller Company. Olin.
|  |  | Revere Copper Products. Allied Industrial Workers of America. International Association of Machinists & Aerospace Workers. Mechanics Educational Society of America (Local 56). United Steelworkers of America.
C-427-603 | 701-TA-270 | Brass sheet and strip/France | American Brass. Bridgeport Brass. Chase Brass & Copper. Hussey Copper. The Miller Company. Olin.
|  |  | Revere Copper Products. Allied Industrial Workers of America. International Association of Machinists & Aerospace Workers. Mechanics Educational Society of America (Local 56). United Steelworkers of America.
A-428-602 | 731-TA-317 | Brass sheet and strip/Germany | American Brass. Bridgeport Brass. Chase Brass & Copper. Hussey Copper. The Miller Company. Olin.
|  |  | Revere Copper Products. Allied Industrial Workers of America. International Association of Machinists & Aerospace Workers. Mechanics Educational Society of America (Local 56). United Steelworkers of America.
A-475-601 | 731-TA-314 | Brass sheet and strip/Italy | American Brass. Bridgeport Brass. Chase Brass & Copper. Hussey Copper. The Miller Company. Olin.
|  |  | Revere Copper Products. Allied Industrial Workers of America. International Association of Machinists & Aerospace Workers. Mechanics Educational Society of America (Local 56). United Steelworkers of America.
A-401-601 | 731-TA-316 | Brass sheet and strip/Sweden | American Brass. Bridgeport Brass. Chase Brass & Copper. Hussey Copper. The Miller Company. Olin.
|  |  | Revere Copper Products. Allied Industrial Workers of America. International Association of Machinists & Aerospace Workers. Mechanics Educational Society of America (Local 56). United Steelworkers of America.
A-588-704 | 731-TA-379 | Brass sheet and strip/Japan | American Brass. Bridgeport Brass. Chase Brass & Copper. Hussey Copper. The Miller Company. North Coast Brass & Copper. Olin.
|  |  | Pegg Metals. Revere Copper Products. Allied Industrial Workers of America. International Association of Machinists & Aerospace Workers. Mechanics Educational Society of America (Local 56). United Steelworkers of America.
A-421-701 | 731-TA-380 | Brass sheet and strip/Netherlands | American Brass. Bridgeport Brass. Chase Brass & Copper. Hussey Copper. The Miller Company. North Coast Brass & Copper. Olin.
|  |  | Pegg Metals. Revere Copper Products. Allied Industrial Workers of America. International Association of Machinists & Aerospace Workers. Mechanics Educational Society of America (Local 56). United Steelworkers of America.
A-831-801 | 731-TA-340-A | Solid urea/Armenia | Agrico Chemical. American Cyanamid. CF Industries. First Mississippi. Mississippi Chemical. Terra International. W.R. Grace.
A-822-801 | 731-TA-340-B | Solid urea/Belarus | Agrico Chemical. American Cyanamid. CF Industries. First Mississippi. Mississippi Chemical. Terra International. W.R. Grace.
A-447-801 | 731-TA-340-C | Solid urea/Estonia | Agrico Chemical. American Cyanamid. CF Industries. First Mississippi. Mississippi Chemical. Terra International. W.R. Grace.
A-451-801 | 731-TA-340-D | Solid urea/Lithuania | Agrico Chemical. American Cyanamid. CF Industries. First Mississippi. Mississippi Chemical. Terra International. W.R. Grace.
A-485-601 | 731-TA-339 | Solid urea/Romania | Agrico Chemical. American Cyanamid. CF Industries. First Mississippi. Mississippi Chemical. Terra International. W.R. Grace.
A-821-801 | 731-TA-340-E | Solid urea/Russia | Agrico Chemical. American Cyanamid. CF Industries. First Mississippi. Mississippi Chemical. Terra International. W.R. Grace.
A-842-801 | 731-TA-340-F | Solid urea/Tajikistan | Agrico Chemical. American Cyanamid. CF Industries. First Mississippi. Mississippi Chemical. Terra International. W.R. Grace.
A-843-801 | 731-TA-340-G | Solid urea/Turkmenistan | Agrico Chemical. American Cyanamid. CF Industries. First Mississippi. Mississippi Chemical. Terra International. W.R. Grace.
A-823-801 | 731-TA-340-H | Solid urea/Ukraine | Agrico Chemical. American Cyanamid. CF Industries. First Mississippi. Mississippi Chemical. Terra International. W.R. Grace.
A-844-801 | 731-TA-340-I | Solid urea/Uzbekistan | Agrico Chemical. American Cyanamid. CF Industries. First Mississippi. Mississippi Chemical. Terra International. W.R. Grace.
C-508-605 | 701-TA-286 | Industrial phosphoric acid/Israel | Albright & Wilson. FMC. Hydrite Chemical. Monsanto. Stauffer Chemical.
A-423-602 | 731-TA-365 | Industrial phosphoric acid/Belgium | Albright & Wilson. FMC. Hydrite Chemical. Monsanto. Stauffer Chemical.
A-489-602 | 731-TA-364 | Aspirin/Turkey | Dow Chemical. Monsanto. Norwich-Eaton.
A-122-605 | 731-TA-367 | Color picture tubes/Canada | Philips Electronic Components Group. Zenith Electronics. Industrial Union Department, AFL-CIO. International Association of Machinists & Aerospace Workers. International Brotherhood of Electrical Workers. International Union of Electronic, Electrical, Technical, Salaried and Machine Workers. United Steelworkers of America.
A-588-609 | 731-TA-368 | Color picture tubes/Japan | Philips Electronic Components Group. Zenith Electronics. Industrial Union Department, AFL-CIO. International Association of Machinists & Aerospace Workers. International Brotherhood of Electrical Workers. International Union of Electronic, Electrical, Technical, Salaried and Machine Workers. United Steelworkers of America.
A-580-605 | 731-TA-369 | Color picture tubes/Korea | Philips Electronic Components Group. Zenith Electronics. Industrial Union Department, AFL-CIO. International Association of Machinists & Aerospace Workers. International Brotherhood of Electrical Workers. International Union of Electronic, Electrical, Technical, Salaried and Machine Workers. United Steelworkers of America.
A-559-601 | 731-TA-370 | Color picture tubes/Singapore | Philips Electronic Components Group. Zenith Electronics. Industrial Union Department, AFL-CIO. International Association of Machinists & Aerospace Workers. International Brotherhood of Electrical Workers. International Union of Electronic, Electrical, Technical, Salaried and Machine Workers. United Steelworkers of America.
A-588-054 | AA1921-143 | Tapered roller bearings 4 inches and under/Japan | No companies identified as petitioners at the Commission; Commerce service list identifies: Mitsubishi. Nissan Motor. Yamaha Motors. NSK. Hoover-NSK Bearing. ITOCHU International. Toyota Motor Sales. Timken. Nippon Seiko. Kawasaki Heavy Duty Industries. Komatsu America. Nachi Western. Ford Motor. Federal Mogul.
|  |  | Itocho. Kanematsu-Goshu USA. Nissan Motor USA. Nachi America. Motorambar. Honda. General Motors. Sumitomo. Koyo Seiko. American Honda Motor. Subaru of America. Suzuki Motor. Kubota Tractor. Isuzu. Nachi-Fujikoshi. NTN.
A-570-601 | 731-TA-344 | Tapered roller bearings/China | L&S Bearing. Timken. Torrington.
A-437-601 | 731-TA-341 | Tapered roller bearings/Hungary | L&S Bearing. Timken. Torrington.
A-485-602 | 731-TA-345 | Tapered roller bearings/Romania | L&S Bearing. Timken. Torrington.
A-588-604 | 731-TA-343 | Tapered roller bearings over 4 inches/Japan | L&S Bearing. Timken. Torrington.
A-427-801 | 731-TA-392-A | Ball bearings/France | Emerson Power Transmission. Kubar Bearings. McGill Manufacturing Co. MPB. Rollway Bearings. Torrington.
A-427-801 | 731-TA-392-B | Cylindrical roller bearings/France | Emerson Power Transmission. MPB. Rollway Bearings. Torrington.
A-427-801 | 731-TA-392-C | Spherical plain bearings/France | Emerson Power Transmission. McGill Manufacturing Co. Rollway Bearings. Torrington.
A-428-801 | 731-TA-391-A | Ball bearings/Germany | Emerson Power Transmission. Kubar Bearings. McGill Manufacturing Co. MPB. Rollway Bearings. Torrington.
A-428-801 | 731-TA-391-B | Cylindrical roller bearings/Germany | Emerson Power Transmission. MPB. Rollway Bearings. Torrington.
A-428-801 | 731-TA-391-C | Spherical plain bearings/Germany | Emerson Power Transmission. Rollway Bearings. Torrington.
A-475-801 | 731-TA-393-A | Ball bearings/Italy | Emerson Power Transmission. Kubar Bearings. McGill Manufacturing Co. MPB. Rollway Bearings. Torrington.
A-475-801 | 731-TA-393-B | Cylindrical roller bearings/Italy | Emerson Power Transmission. MPB. Rollway Bearings. Torrington.
A-588-804 | 731-TA-394-A | Ball bearings/Japan | Emerson Power Transmission. Kubar Bearings. McGill Manufacturing Co. MPB. Rollway Bearings. Torrington.
A-588-804 | 731-TA-394-B | Cylindrical roller bearings/Japan | Emerson Power Transmission. MPB. Rollway Bearings. Torrington.
A-588-804 | 731-TA-394-C | Spherical plain bearings/Japan | Emerson Power Transmission. Rollway Bearings. Torrington.
A-485-801 | 731-TA-395 | Ball bearings/Romania | Emerson Power Transmission. Kubar Bearings. MPB. Rollway Bearings. Torrington.
A-559-801 | 731-TA-396 | Ball bearings/Singapore | Emerson Power Transmission. Kubar Bearings. McGill Manufacturing Co. MPB. Rollway Bearings. Torrington.
A-401-801 | 731-TA-397-A | Ball bearings/Sweden | Emerson Power Transmission. Kubar Bearings. MPB. Rollway Bearings. Torrington.
A-401-801 | 731-TA-397-B | Cylindrical roller bearings/Sweden | Emerson Power Transmission. MPB. Rollway Bearings. Torrington.
A-412-801 | 731-TA-399-A | Ball bearings/United Kingdom | Emerson Power Transmission. Kubar Bearings. McGill Manufacturing Co. MPB. Rollway Bearings. Torrington.
A-412-801 | 731-TA-399-B | Cylindrical roller bearings/United Kingdom | Emerson Power Transmission. MPB. Rollway Bearings. Torrington.
A-588-703 | 731-TA-377 | Internal combustion industrial forklift trucks/Japan | Hyster. Ad-Hoc Group of Workers from Hyster's Berea, Kentucky and Sulligent, Alabama Facilities. Allied Industrial Workers of America. Independent Lift Truck Builders Union. International Association of Machinists & Aerospace Workers. United Shop & Service Employees.
A-588-706 | 731-TA-384 | Nitrile rubber/Japan | Uniroyal Chemical.
A-583-008 | 731-TA-132 | Small diameter carbon steel pipe and tube/Taiwan | Allied Tube & Conduit. American Tube. Bull Moose Tube. Copperweld Tubing. J&L Steel. Kaiser Steel. Merchant Metals. Pittsburgh Tube. Southwestern Pipe. Western Tube & Conduit.
C-489-502 | 701-TA-253 | Welded carbon steel pipe and tube/Turkey | Allied Tube & Conduit. American Tube. Bernard Epps. Bock Industries. Bull Moose Tube. Central Steel Tube. Century Tube. Copperweld Tubing. Cyclops. Hughes Steel & Tube. Kaiser Steel. Laclede Steel.
|  |  | Maruichi American. Maverick Tube. Merchant Metals. Phoenix Steel. Pittsburgh Tube. Quanex. Sharon Tube. Southwestern Pipe. UNR-Leavitt. Welded Tube. Western Tube & Conduit. Wheatland Tube.
A-549-502 | 731-TA-252 | Welded carbon steel pipe and tube/Thailand | Allied Tube & Conduit. American Tube. Bernard Epps. Bock Industries. Bull Moose Tube. Central Steel Tube. Century Tube. Copperweld Tubing. Cyclops. Hughes Steel & Tube. Kaiser Steel. Laclede Steel.
|  |  | Maruichi American. Maverick Tube. Merchant Metals. Phoenix Steel. Pittsburgh Tube. Quanex. Sharon Tube. Southwestern Pipe. UNR-Leavitt. Welded Tube. Western Tube & Conduit. Wheatland Tube.
A-533-502 | 731-TA-271 | Welded carbon steel pipe and tube/India | Allied Tube & Conduit. American Tube. Bernard Epps. Bock Industries. Bull Moose Tube. Central Steel Tube. Century Tube. Copperweld Tubing. Cyclops. Hughes Steel & Tube. Kaiser Steel. Laclede Steel.
|  |  | Maruichi American. Maverick Tube. Merchant Metals. Phoenix Steel. Pittsburgh Tube. Quanex. Sharon Tube. Southwestern Pipe. UNR-Leavitt. Welded Tube. Western Tube & Conduit. Wheatland Tube.
A-489-501 | 731-TA-273 | Welded carbon steel pipe and tube/Turkey | Allied Tube & Conduit. American Tube. Bernard Epps. Bock Industries. Bull Moose Tube. Central Steel Tube. Century Tube. Copperweld Tubing. Cyclops. Hughes Steel & Tube. Kaiser Steel. Laclede Steel.
|  |  | Maruichi American. Maverick Tube. Merchant Metals. Phoenix Steel. Pittsburgh Tube. Quanex. Sharon Tube. Southwestern Pipe. UNR-Leavitt. Welded Tube. Western Tube & Conduit. Wheatland Tube.
A-122-506 | 731-TA-276 | Oil country tubular goods/Canada | CF&I Steel. Copperweld Tubing. Cyclops. KPC. Lone Star Steel. LTV Steel. Maverick Tube. Quanex. U.S. Steel.
A-583-505 | 731-TA-277 | Oil country tubular goods/Taiwan | CF&I Steel. Copperweld Tubing. Cyclops. KPC. Lone Star Steel. LTV Steel. Maverick Tube. Quanex. U.S. Steel.
A-559-502 | 731-TA-296 | Small diameter standard and rectangular pipe and tube/Singapore | Allied Tube & Conduit. American Tube. Bull Moose Tube. Cyclops. Hannibal Industries. Laclede Steel. Pittsburgh Tube. Sharon Tube. Western Tube & Conduit. Wheatland Tube.
A-583-803 | 731-TA-410 | Light-walled rectangular tube/Taiwan | Bull Moose Tube. Hannibal Industries. Harris Tube. Maruichi American. Searing Industries. Southwestern Pipe. Western Tube & Conduit.
A-357-802 | 731-TA-409 | Light-walled rectangular tube/Argentina | Bull Moose Tube. Hannibal Industries. Harris Tube. Maruichi American. Searing Industries. Southwestern Pipe. Western Tube & Conduit.
A-351-809 | 731-TA-532 | Circular welded nonalloy steel pipe/Brazil | Allied Tube & Conduit. American Tube. Bull Moose Tube. Century Tube. CSI Tubular Products. Cyclops. Laclede Steel.
|  |  | LTV Tubular Products. Maruichi American. Sharon Tube. USX. Western Tube & Conduit. Wheatland Tube.
A-580-809 | 731-TA-533 | Circular welded nonalloy steel pipe/Korea | Allied Tube & Conduit. American Tube. Bull Moose Tube. Century Tube. CSI Tubular Products. Cyclops. Laclede Steel.
|  |  | LTV Tubular Products. Maruichi American. Sharon Tube. USX. Western Tube & Conduit. Wheatland Tube.
A-201-805 | 731-TA-534 | Circular welded nonalloy steel pipe/Mexico | Allied Tube & Conduit. American Tube. Bull Moose Tube. Century Tube. CSI Tubular Products. Cyclops. Laclede Steel.
|  |  | LTV Tubular Products. Maruichi American. Sharon Tube. USX. Western Tube & Conduit. Wheatland Tube.
A-583-814 | 731-TA-536 | Circular welded nonalloy steel pipe/Taiwan | Allied Tube & Conduit. American Tube. Bull Moose Tube. Century Tube. CSI Tubular Products. Cyclops. Laclede Steel.
|  |  | LTV Tubular Products. Maruichi American. Sharon Tube. USX. Western Tube & Conduit. Wheatland Tube.
A-307-805 | 731-TA-537 | Circular welded nonalloy steel pipe/Venezuela | Allied Tube & Conduit. American Tube. Bull Moose Tube. Century Tube. CSI Tubular Products. Cyclops. Laclede Steel.
|  |  | LTV Tubular Products. Maruichi American. Sharon Tube. USX. Western Tube & Conduit. Wheatland Tube.
A-588-707 | 731-TA-386 | Granular polytetrafluoroethylene/Japan | E.I. du Pont de Nemours. ICI Americas.
A-475-703 | 731-TA-385 | Granular polytetrafluoroethylene/Italy | E.I. du Pont de Nemours. ICI Americas.
A-351-602 | 731-TA-308 | Carbon steel butt-weld pipe fittings/Brazil | Ladish. Mills Iron Works. Steel Forgings. Tube Forgings of America. Weldbend.
A-583-605 | 731-TA-310 | Carbon steel butt-weld pipe fittings/Taiwan | Ladish. Mills Iron Works. Steel Forgings. Tube Forgings of America. Weldbend.
A-588-602 | 731-TA-309 | Carbon steel butt-weld pipe fittings/Japan | Ladish. Mills Iron Works. Steel Forgings. Tube Forgings of America. Weldbend.
A-570-814 | 731-TA-520 | Carbon steel butt-weld pipe fittings/China | Hackney. Ladish. Mills Iron Works. Steel Forgings. Tube Forgings of America.
A-549-807 | 731-TA-521 | Carbon steel butt-weld pipe fittings/Thailand | Hackney. Ladish. Mills Iron Works. Steel Forgings. Tube Forgings of America.
A-484-801 | 731-TA-406 | Electrolytic manganese dioxide/Greece | Chemetals. Kerr-McGee. Rayovac.
A-588-806 | 731-TA-408 | Electrolytic manganese dioxide/Japan | Chemetals. Kerr-McGee. Rayovac.
A-428-802 | 731-TA-419 | Industrial belts/Germany | The Gates Rubber Company. The Goodyear Tire and Rubber Company.
A-475-802 | 731-TA-413 | Industrial belts/Italy | The Gates Rubber Company. The Goodyear Tire and Rubber Company.
A-588-807 | 731-TA-414 | Industrial belts/Japan | The Gates Rubber Company. The Goodyear Tire and Rubber Company.
A-559-802 | 731-TA-415 | Industrial belts/Singapore | The Gates Rubber Company. The Goodyear Tire and Rubber Company.
A-427-009 | 731-TA-96 | Industrial nitrocellulose/France | Hercules.
A-351-804 | 731-TA-439 | Industrial nitrocellulose/Brazil | Hercules.
A-570-802 | 731-TA-441 | Industrial nitrocellulose/China | Hercules.
A-428-803 | 731-TA-444 | Industrial nitrocellulose/Germany | Hercules.
A-588-812 | 731-TA-440 | Industrial nitrocellulose/Japan | Hercules.
A-580-805 | 731-TA-442 | Industrial nitrocellulose/Korea | Hercules.
A-412-803 | 731-TA-443 | Industrial nitrocellulose/United Kingdom | Hercules.
A-479-801 | 731-TA-445 | Industrial nitrocellulose/Yugoslavia | Hercules.
A-122-804 | 731-TA-422 | Steel rails/Canada | Bethlehem Steel. CF&I Steel.
C-122-805 | 701-TA-297 | Steel rails/Canada | Bethlehem Steel. CF&I Steel.
A-588-811 | 731-TA-432 | Drafting machines/Japan | Vemco.
A-588-810 | 731-TA-429 | Mechanical transfer presses/Japan | Allied Products. United Autoworkers of America. United Steelworkers of America.
A-570-803 | 731-TA-457-A | Axes and adzes/China | Warwood Tool. Woodings-Verona.
A-570-803 | 731-TA-457-B | Bars and wedges/China | Warwood Tool. Woodings-Verona.
A-570-803 | 731-TA-457-C | Hammers and sledges/China | Warwood Tool. Woodings-Verona.
A-570-803 | 731-TA-457-D | Picks and mattocks/China | Warwood Tool. Woodings-Verona.
A-570-805 | 731-TA-466 | Sodium thiosulfate/China | Calabrian.
A-428-807 | 731-TA-465 | Sodium thiosulfate/Germany | Calabrian.
A-412-805 | 731-TA-468 | Sodium thiosulfate/United Kingdom | Calabrian.
C-469-004 | 701-TA-178 | Stainless steel wire rod/Spain | AL Tech Specialty Steel. Armco Steel. Carpenter Technology. Colt Industries. Cyclops. Guterl Special Steel. Joslyn Stainless Steels. Republic Steel.
A-533-808 | 731-TA-638 | Stainless steel wire rod/India | AL Tech Specialty Steel. Armco Steel. Carpenter Technology. Republic Engineered Steels. Talley Metals Technology. United Steelworkers of America.
A-351-819 | 731-TA-636 | Stainless steel wire rod/Brazil | AL Tech Specialty Steel. Armco Steel. Carpenter Technology. Republic Engineered Steels. Talley Metals Technology. United Steelworkers of America.
A-427-811 | 731-TA-637 | Stainless steel wire rod/France | AL Tech Specialty Steel. Armco Steel. Carpenter Technology. Republic Engineered Steels. Talley Metals Technology. United Steelworkers of America.
A-580-810 | 731-TA-540 | Welded ASTM A-312 stainless steel pipe/Korea | Avesta Sandvik Tube. Bristol Metals. Crucible Materials. Damascus Tubular Products. United Steelworkers of America.
A-583-815 | 731-TA-541 | Welded ASTM A-312 stainless steel pipe/Taiwan | Avesta Sandvik Tube. Bristol Metals. Crucible Materials. Damascus Tubular Products. United Steelworkers of America.
A-403-801 | 731-TA-454 | Fresh and chilled Atlantic salmon/Norway | Heritage Salmon. The Coalition for Fair Atlantic Salmon Trade.
C-403-802 | 701-TA-302 | Fresh and chilled Atlantic salmon/Norway | Heritage Salmon. The Coalition for Fair Atlantic Salmon Trade.
A-580-807 | 731-TA-459 | Polyethylene terephthalate film/Korea | E.I. du Pont de Nemours. Hoechst Celanese. ICI Americas.
A-570-804 | 731-TA-464 | Sparklers/China | B.J. Alan. Diamond Sparkler. Elkton Sparkler.
A-588-702 | 731-TA-376 | Stainless steel butt-weld pipe fittings/Japan | Flowline. Shaw Alloy Piping Products. Taylor Forge Stainless.
A-580-813 | 731-TA-563 | Stainless steel butt-weld pipe fittings/Korea | Gerlin. Markovitz Enterprises. Shaw Alloy Piping Products. Taylor Forge Stainless.
A-583-816 | 731-TA-564 | Stainless steel butt-weld pipe fittings/Taiwan | Gerlin. Markovitz Enterprises. Shaw Alloy Piping Products. Taylor Forge Stainless.
A-201-802 | 731-TA-451 | Gray portland cement and clinker/Mexico | Alamo Cement. Blue Circle. BoxCrow Cement. Calaveras Cement. Capitol Aggregates. Centex Cement. Florida Crushed Stone. Gifford-Hill. Hanson Permanente Cement. Ideal Basic Industries.
|  |  | National Cement Company of Alabama. National Cement Company of California. Phoenix Cement. Riverside Cement. Southdown. Tarmac America. Texas Industries. Independent Workers of North America (Locals 49, 52, 89, 192, and 471). International Union of Operating Engineers (Local 12).
A-588-815 | 731-TA-461 | Gray portland cement and clinker/Japan | Calaveras Cement. Hanson Permanente Cement. National Cement Co., Inc. National Cement Company of California. Southdown. Independent Workers of North America (Locals 49, 52, 89, 192, and 471). International Union of Operating Engineers (Local 12).
A-307-803 | 731-TA-519 | Gray portland cement and clinker/Venezuela | Florida Crushed Stone. Southdown. Tarmac America.
C-307-804 | 303-TA-21 | Gray portland cement and clinker/Venezuela | Florida Crushed Stone. Southdown. Tarmac America.
A-588-817 | 731-TA-469 | Electroluminescent flat-panel displays/Japan | The Cherry Corporation. Electro Plasma. Magnascreen. OIS Optical Imaging Systems. Photonics Technology. Planar Systems. Plasmaco.
A-570-808 | 731-TA-474 | Chrome-plated lug nuts/China | Consolidated International Automotive. Key Manufacturing. McGard.
A-583-810 | 731-TA-475 | Chrome-plated lug nuts/Taiwan | Consolidated International Automotive Key Manufacturing. McGard.
A-122-814 | 731-TA-528 | Pure magnesium/Canada | Magnesium Corporation of America.
C-122-815 | 701-TA-309-A | Alloy magnesium/Canada | Magnesium Corporation of America.
C-122-815 | 701-TA-309-B | Pure magnesium/Canada | Magnesium Corporation of America.
A-557-805 | 731-TA-527 | Extruded rubber thread/Malaysia | Globe Manufacturing. North American Rubber Thread.
A-843-802 | 731-TA-539 | Uranium/Kazakhstan | Ferret Exploration. First Holding. Geomex Minerals. IMC Fertilizer. Malapai Resources. Pathfinder Mines.
|  |  | Power Resources. Rio Algom Mining. Solution Mining. Total Minerals. Umetco Minerals. Uranium Resources. Oil, Chemical and Atomic Workers.
A-821-802 | 731-TA-539-C | Uranium/Russia | Ferret Exploration. First Holding. Geomex Minerals. IMC Fertilizer. Malapai Resources. Pathfinder Mines. Power Resources. Rio Algom Mining. Solution Mining. Total Minerals. Umetco Minerals. Uranium Resources. Oil, Chemical and Atomic Workers.
A-844-802 | 731-TA-539-F | Uranium/Uzbekistan | Ferret Exploration. First Holding. Geomex Minerals. IMC Fertilizer. Malapai Resources. Pathfinder Mines.
|  |  | Power Resources. Rio Algom Mining. Solution Mining. Total Minerals. Umetco Minerals. Uranium Resources. Oil, Chemical and Atomic Workers.
A-823-802 | 731-TA-539-E | Uranium/Ukraine | Ferret Exploration. First Holding. Geomex Minerals. IMC Fertilizer. Malapai Resources. Pathfinder Mines.
|  |  | Power Resources. Rio Algom Mining. Solution Mining. Total Minerals. Umetco Minerals. Uranium Resources. Oil, Chemical and Atomic Workers.
A-583-080 | AA1921-197 | Carbon steel plate/Taiwan | No petition (self-initiated by Treasury); Commerce service list identifies: U.S. Steel. China Steel. Bethlehem Steel.
C-423-806 | 701-TA-319 | Cut-to-length carbon steel plate/Belgium | Bethlehem Steel. California Steel Industries. Geneva Steel. Gulf States Steel. Inland Steel Industries. Lukens Steel.
|  |  | National Steel. Nextech. Sharon Steel. Theis Precision Steel. Thompson Steel. U.S. Steel. United Steelworkers of America.
C-351-818 | 701-TA-320 | Cut-to-length carbon steel plate/Brazil | Bethlehem Steel. California Steel Industries. Geneva Steel. Gulf States Steel. Inland Steel Industries. Lukens Steel.
|  |  | National Steel. Nextech. Sharon Steel. Theis Precision Steel. Thompson Steel. U.S. Steel. United Steelworkers of America.
C-428-817 | 701-TA-322 | Cut-to-length carbon steel plate/Germany | Bethlehem Steel. California Steel Industries. Geneva Steel. Gulf States Steel. Inland Steel Industries. Lukens Steel.
|  |  | National Steel. Nextech. Sharon Steel. Theis Precision Steel. Thompson Steel. U.S. Steel. United Steelworkers of America.
C-201-810 | 701-TA-325 | Cut-to-length carbon steel plate/Mexico | Bethlehem Steel. California Steel Industries. Geneva Steel. Gulf States Steel. Inland Steel Industries. Lukens Steel.
|  |  | National Steel. Nextech. Sharon Steel. Theis Precision Steel. Thompson Steel. U.S. Steel. United Steelworkers of America.
C-469-804 | 701-TA-326 | Cut-to-length carbon steel plate/Spain | Bethlehem Steel. California Steel Industries. Geneva Steel. Gulf States Steel. Inland Steel Industries. Lukens Steel.
|  |  | National Steel. Nextech. Sharon Steel. Theis Precision Steel. Thompson Steel. U.S. Steel. United Steelworkers of America.
C-401-804 | 701-TA-327 | Cut-to-length carbon steel plate/Sweden | Bethlehem Steel. California Steel Industries. Geneva Steel. Gulf States Steel. Inland Steel Industries. Lukens Steel.
|  |  | National Steel. Nextech. Sharon Steel. Theis Precision Steel. Thompson Steel. U.S. Steel. United Steelworkers of America.
C-412-815 | 701-TA-328 | Cut-to-length carbon steel plate/United Kingdom | Bethlehem Steel. California Steel Industries. Geneva Steel. Gulf States Steel. Inland Steel Industries. Lukens Steel.
|  |  | National Steel. Nextech. Sharon Steel. Theis Precision Steel. Thompson Steel. U.S. Steel. United Steelworkers of America.
A-423-805 | 731-TA-573 | Cut-to-length carbon steel plate/Belgium | Bethlehem Steel. California Steel Industries. Geneva Steel. Gulf States Steel. Inland Steel Industries. Lukens Steel.
|  |  | National Steel. Nextech. Sharon Steel. Theis Precision Steel. Thompson Steel. U.S. Steel. United Steelworkers of America.
A-351-817 | 731-TA-574 | Cut-to-length carbon steel plate/Brazil | Bethlehem Steel. California Steel Industries. Geneva Steel. Gulf States Steel. Inland Steel Industries. Lukens Steel.
|  |  | National Steel. Nextech. Sharon Steel. Theis Precision Steel. Thompson Steel. U.S. Steel. United Steelworkers of America.
A-122-823 | 731-TA-575 | Cut-to-length carbon steel plate/Canada | Bethlehem Steel. California Steel Industries. Geneva Steel. Gulf States Steel. Inland Steel Industries. Lukens Steel.
|  |  | National Steel. Nextech. Sharon Steel. Theis Precision Steel. Thompson Steel. U.S. Steel. United Steelworkers of America.
A-405-802 | 731-TA-576 | Cut-to-length carbon steel plate/Finland | Bethlehem Steel. California Steel Industries. Geneva Steel. Gulf States Steel. Inland Steel Industries. Lukens Steel.
|  |  | National Steel. Nextech. Sharon Steel. Theis Precision Steel. Thompson Steel. U.S. Steel. United Steelworkers of America
A-428-816 | 731-TA-578 | Cut-to-length carbon steel plate/Germany | Bethlehem Steel. California Steel Industries. Geneva Steel. Gulf States Steel. Inland Steel Industries. Lukens Steel.
|  |  | National Steel. Nextech. Sharon Steel. Theis Precision Steel. Thompson Steel. U.S. Steel. United Steelworkers of America.
A-201-809 | 731-TA-582 | Cut-to-length carbon steel plate/Mexico | Bethlehem Steel. California Steel Industries. Geneva Steel. Gulf States Steel. Inland Steel Industries. Lukens Steel.
|  |  | National Steel. Nextech. Sharon Steel. Theis Precision Steel. Thompson Steel. U.S. Steel. United Steelworkers of America.
A-455-802 | 731-TA-583 | Cut-to-length carbon steel plate/Poland | Bethlehem Steel. California Steel Industries. Geneva Steel. Gulf States Steel. Inland Steel Industries. Lukens Steel.
|  |  | National Steel. Nextech. Sharon Steel. Theis Precision Steel. Thompson Steel. U.S. Steel. United Steelworkers of America.
A-485-803 | 731-TA-584 | Cut-to-length carbon steel plate/Romania | Bethlehem Steel. California Steel Industries. Geneva Steel. Gulf States Steel. Inland Steel Industries. Lukens Steel.
|  |  | National Steel. Nextech. Sharon Steel. Theis Precision Steel. Thompson Steel. U.S. Steel. United Steelworkers of America.
A-469-803 | 731-TA-585 | Cut-to-length carbon steel plate/Spain | Bethlehem Steel. California Steel Industries. Geneva Steel. Gulf States Steel. Inland Steel Industries. Lukens Steel.
|  |  | National Steel. Nextech. Sharon Steel. Theis Precision Steel. Thompson Steel. U.S. Steel. United Steelworkers of America.
A-401-805 | 731-TA-586 | Cut-to-length carbon steel plate/Sweden | Bethlehem Steel. California Steel Industries. Geneva Steel. Gulf States Steel. Inland Steel Industries. Lukens Steel.
|  |  | National Steel. Nextech. Sharon Steel. Theis Precision Steel. Thompson Steel. U.S. Steel. United Steelworkers of America.
A-412-814 | 731-TA-587 | Cut-to-length carbon steel plate/United Kingdom | Bethlehem Steel. California Steel Industries. Geneva Steel. Gulf States Steel. Inland Steel Industries. Lukens Steel.
|  |  | National Steel. Nextech. Sharon Steel. Theis Precision Steel. Thompson Steel. U.S. Steel. United Steelworkers of America.
C-401-401 | 701-TA-231 | Cold-rolled carbon steel flat products/Sweden | Bethlehem Steel. Chaparral. U.S. Steel.
C-428-817 | 701-TA-340 | Cold-rolled carbon steel flat products/Germany | Armco Steel. Bethlehem Steel. California Steel Industries. Gulf States Steel. Inland Steel Industries. LTV Steel. National Steel.
|  |  | Nextech. Rouge Steel Co. Sharon Steel. Theis Precision Steel. Thompson Steel. U.S. Steel. WCI Steel. Weirton Steel. United Steelworkers of America.
C-580-818 | 701-TA-342 | Cold-rolled carbon steel flat products/Korea | Armco Steel. Bethlehem Steel. California Steel Industries. Gulf States Steel. Inland Steel Industries. LTV Steel. National Steel.
|  |  | Nextech. Rouge Steel Co. Sharon Steel. Theis Precision Steel. Thompson Steel. U.S. Steel. WCI Steel. Weirton Steel. United Steelworkers of America.
A-428-814 | 731-TA-604 | Cold-rolled carbon steel flat products/Germany | Armco Steel. Bethlehem Steel. California Steel Industries. Gulf States Steel. Inland Steel Industries. LTV Steel. National Steel.
|  |  | Nextech. Rouge Steel Co. Sharon Steel. Theis Precision Steel. Thompson Steel. U.S. Steel. WCI Steel. Weirton Steel. United Steelworkers of America.
A-580-815 | 731-TA-607 | Cold-rolled carbon steel flat products/Korea | Armco Steel. Bethlehem Steel. California Steel Industries. Gulf States Steel. Inland Steel Industries. LTV Steel. National Steel.
|  |  | Nextech. Rouge Steel Co. Sharon Steel. Theis Precision Steel. Thompson Steel. U.S. Steel. WCI Steel. Weirton Steel. United Steelworkers of America.
A-421-804 | 731-TA-608 | Cold-rolled carbon steel flat products/Netherlands | Armco Steel. Bethlehem Steel. California Steel Industries. Gulf States Steel. Inland Steel Industries. LTV Steel. National Steel.
|  |  | Nextech. Rouge Steel Co. Sharon Steel. Theis Precision Steel. Thompson Steel. U.S. Steel. WCI Steel. Weirton Steel. United Steelworkers of America.
C-427-810 | 701-TA-348 | Corrosion-resistant carbon steel flat products/France | Armco Steel. Bethlehem Steel. California Steel Industries. Geneva Steel Gulf States Steel. Inland Steel Industries. LTV Steel. Lukens Steel. National Steel.
|  |  | Nextech. Rouge Steel Co. Sharon Steel. Theis Precision Steel. Thompson Steel. U.S. Steel. WCI Steel. Weirton Steel. United Steelworkers of America.
C-428-817 | 701-TA-349 | Corrosion-resistant carbon steel flat products/Germany | Armco Steel. Bethlehem Steel. California Steel Industries. Geneva Steel. Gulf States Steel. Inland Steel Industries. LTV Steel. Lukens Steel. National Steel. Nextech. Rouge Steel Co. Sharon Steel. Theis Precision Steel. Thompson Steel. U.S. Steel. WCI Steel. Weirton Steel. United Steelworkers of America.
C-580-818 | 701-TA-350 | Corrosion-resistant carbon steel flat products/Korea | Armco Steel. Bethlehem Steel. California Steel Industries. Geneva Steel. Gulf States Steel. Inland Steel Industries. LTV Steel. Lukens Steel. National Steel. Nextech. Rouge Steel Co. Sharon Steel. Theis Precision Steel. Thompson Steel. U.S. Steel. WCI Steel. Weirton Steel. United Steelworkers of America.
A-602-803 | 731-TA-612 | Corrosion-resistant carbon steel flat products/Australia | Armco Steel. Bethlehem Steel. California Steel Industries. Geneva Steel. Gulf States Steel. Inland Steel Industries. LTV Steel. Lukens Steel. National Steel.
|  |  | Nextech. Rouge Steel Co. Sharon Steel. Theis Precision Steel. Thompson Steel. U.S. Steel. WCI Steel. Weirton Steel. United Steelworkers of America.
A-122-822 | 731-TA-614 | Corrosion-resistant carbon steel flat products/Canada | Armco Steel. Bethlehem Steel. California Steel Industries. Geneva Steel. Gulf States Steel. Inland Steel Industries. LTV Steel. Lukens Steel. National Steel. Nextech. Rouge Steel Co. Sharon Steel. Theis Precision Steel. Thompson Steel. U.S. Steel. WCI Steel. Weirton Steel. United Steelworkers of America.
A-427-808 | 731-TA-615 | Corrosion-resistant carbon steel flat products/France | Armco Steel. Bethlehem Steel. California Steel Industries. Geneva Steel. Gulf States Steel. Inland Steel Industries. LTV Steel. Lukens Steel. National Steel. Nextech. Rouge Steel Co. Sharon Steel. Theis Precision Steel. Thompson Steel. U.S. Steel. WCI Steel. Weirton Steel. United Steelworkers of America.
A-428-815 | 731-TA-616 | Corrosion-resistant carbon steel flat products/Germany | Armco Steel. Bethlehem Steel. California Steel Industries. Geneva Steel. Gulf States Steel. Inland Steel Industries. LTV Steel. Lukens Steel. National Steel.
|  |  | Nextech. Rouge Steel Co. Sharon Steel. Theis Precision Steel. Thompson Steel. U.S. Steel. WCI Steel. Weirton Steel. United Steelworkers of America.
A-588-826 | 731-TA-617 | Corrosion-resistant carbon steel flat products/Japan | Bethlehem Steel. California Steel Industries. Geneva Steel. Gulf States Steel. Lukens Steel. Nextech. Rouge Steel Co.
|  |  | Sharon Steel. Theis Precision Steel. Thompson Steel. U.S. Steel. WCI Steel. Weirton Steel. United Steelworkers of America.
A-580-816 | 731-TA-618 | Corrosion-resistant carbon steel flat products/Korea | Armco Steel. Bethlehem Steel. California Steel Industries. Geneva Steel. Gulf States Steel. Inland Steel Industries. LTV Steel. Lukens Steel. National Steel. Nextech. Rouge Steel Co. Sharon Steel. Theis Precision Steel. Thompson Steel. U.S. Steel. WCI Steel. Weirton Steel. United Steelworkers of America.
A-570-815 | 731-TA-538 | Sulfanilic acid/China | R-M Industries.
A-533-806 | 731-TA-561 | Sulfanilic acid/India | R-M Industries.
C-533-807 | 701-TA-318 | Sulfanilic acid/India | R-M Industries.
A-570-806 | 731-TA-472 | Silicon metal/China | American Alloys. Elkem Metals. Globe Metallurgical. Silicon Metaltech. SiMETCO. SKW Alloys. International Union of Electronics, Electrical, Machine and Furniture Workers (Local 693). Oil, Chemical and Atomic Workers (Local 389). Textile Processors, Service Trades, Health Care Professional and Technical Employees (Local 60). United Steelworkers of America (Locals 5171, 8538, and 12646).
A-351-806 | 731-TA-471 | Silicon metal/Brazil | American Alloys Globe Metallurgical. Silicon Metaltech. SiMETCO. International Union of Electronics, Electrical, Machine and Furniture Workers (Local 693).
|  |  | Oil, Chemical and Atomic Workers (Local 389). Textile Processors, Service Trades, Health Care Professional and Technical Employees (Local 60). United Steelworkers of America (Locals 5171, 8538, and 12646).
A-357-804 | 731-TA-470 | Silicon metal/Argentina | American Alloys. Elkem Metals. Globe Metallurgical. Silicon Metaltech. SiMETCO. SKW Alloys. International Union of Electronics, Electrical, Machine and Furniture Workers (Local 693).
|  |  | Oil, Chemical and Atomic Workers (Local 389). Textile Processors, Service Trades, Health Care Professional and Technical Employees (Local 60). United Steelworkers of America (Locals 5171, 8538, and 12646).
A-570-819 | 731-TA-567 | Ferrosilicon/China | AIMCOR. Alabama Silicon. American Alloys. Globe Metallurgical. Silicon Metaltech. Oil, Chemical and Atomic Workers (Local 389).
|  |  | United Autoworkers of America (Local 523). United Steelworkers of America (Locals 2528, 3081, 5171, and 12646).
A-843-804 | 731-TA-566 | Ferrosilicon/Kazakhstan | AIMCOR. Alabama Silicon. American Alloys. Globe Metallurgical. Silicon Metaltech.
|  |  | Oil, Chemical and Atomic Workers (Local 389). United Autoworkers of America (Local 523). United Steelworkers of America (Locals 2528, 3081, 5171, and 12646).
A-823-804 | 731-TA-569 | Ferrosilicon/Ukraine | AIMCOR. Alabama Silicon. American Alloys. Globe Metallurgical. Silicon Metaltech.
|  |  | Oil, Chemical and Atomic Workers (Local 389). United Autoworkers of America (Local 523). United Steelworkers of America (Locals 2528, 3081, 5171, and 12646).
C-307-808 | 303-TA-23 | Ferrosilicon/Venezuela | AIMCOR. Alabama Silicon. American Alloys. Globe Metallurgical. Silicon Metaltech.
|  |  | Oil, Chemical and Atomic Workers (Local 389). United Autoworkers of America (Local 523). United Steelworkers of America (Locals 2528, 3081, 5171, and 12646).
A-821-804 | 731-TA-568 | Ferrosilicon/Russia | AIMCOR. Alabama Silicon. American Alloys. Globe Metallurgical. Silicon Metaltech. Oil, Chemical and Atomic Workers (Local 389). United Autoworkers of America (Local 523). United Steelworkers of America (Locals 2528, 3081, 5171, and 12646).
A-307-807 | 731-TA-570 | Ferrosilicon/Venezuela | AIMCOR. Alabama Silicon. American Alloys. Globe Metallurgical. Silicon Metaltech.
|  |  | Oil, Chemical and Atomic Workers (Local 389). United Autoworkers of America (Local 523). United Steelworkers of America (Locals 2528, 3081, 5171, and 12646).
A-351-820 | 731-TA-641 | Ferrosilicon/Brazil | AIMCOR. Alabama Silicon. American Alloys. Globe Metallurgical. Silicon Metaltech.
|  |  | Oil, Chemical and Atomic Workers (Local 389). United Autoworkers of America (Local 523). United Steelworkers of America (Locals 2528, 3081, 5171, and 12646).
A-823-805 | 731-TA-673 | Silicomanganese/Ukraine | Elkem Metals. Oil, Chemical and Atomic Workers (Local 3-639).
A-351-824 | 731-TA-671 | Silicomanganese/Brazil | Elkem Metals. Oil, Chemical and Atomic Workers (Local 3-639).
A-570-828 | 731-TA-672 | Silicomanganese/China | Elkem Metals. Oil, Chemical and Atomic Workers (Local 3-639).
A-583-820 | 731-TA-625 | Helical spring lock washers/Taiwan | Illinois Tool Works.
A-570-822 | 731-TA-624 | Helical spring lock washers/China | Illinois Tool Works.
A-533-809 | 731-TA-639 | Forged stainless steel flanges/India | Gerlin. Ideal Forging. Maass Flange. Markovitz Enterprises.
A-583-821 | 731-TA-640 | Forged stainless steel flanges/Taiwan | Gerlin. Ideal Forging. Maass Flange. Markovitz Enterprises.
A-421-805 | 731-TA-652 | Aramid fiber/Netherlands | E.I. du Pont de Nemours.
C-475-812 | 701-TA-355 | Grain-oriented silicon electrical steel/Italy | Allegheny Ludlum. Armco Steel. Butler Armco Independent Union. United Steelworkers of America. Zanesville Armco Independent Union.
A-588-831 | 731-TA-660 | Grain-oriented silicon electrical steel/Japan | Allegheny Ludlum. Armco Steel. United Steelworkers of America.
A-475-811 | 731-TA-659 | Grain-oriented silicon electrical steel/Italy | Allegheny Ludlum. Armco Steel. Butler Armco Independent Union. United Steelworkers of America. Zanesville Armco Independent Union.
A-570-831 | 731-TA-683 | Fresh garlic/China | A&D Christopher Ranch. Belridge Packing. Colusa Produce. Denice & Filice Packing. El Camino Packing. The Garlic Company. Vessey and Company.
A-570-826 | 731-TA-663 | Paper clips/China | ACCO USA. Labelon/Noesting. TRICO Manufacturing.
A-570-827 | 731-TA-669 | Cased pencils/China | Blackfeet Indian Writing Instrument. Dixon-Ticonderoga. Empire Berol. Faber-Castell. General Pencil.
|  |  | J.R. Moon Pencil. Musgrave Pen & Pencil. Panda. Writing Instrument Manufacturers Association, Pencil Section.
A-570-830 | 731-TA-677 | Coumarin/China | Rhone-Poulenc.
A-351-825 | 731-TA-678 | Stainless steel bar/Brazil | AL Tech Specialty Steel. Carpenter Technology. Crucible Specialty Metals. Electralloy. Republic Engineered Steels. Slater Steels. Talley Metals Technology. United Steelworkers of America.
A-533-810 | 731-TA-679 | Stainless steel bar/India | AL Tech Specialty Steel. Carpenter Technology. Crucible Specialty Metals. Electralloy. Republic Engineered Steels. Slater Steels. Talley Metals Technology. United Steelworkers of America.
A-588-833 | 731-TA-681 | Stainless steel bar/Japan | AL Tech Specialty Steel. Carpenter Technology. Crucible Specialty Metals. Electralloy. Republic Engineered Steels. Slater Steels. Talley Metals Technology. United Steelworkers of America.
A-469-805 | 731-TA-682 | Stainless steel bar/Spain | AL Tech Specialty Steel. Carpenter Technology. Crucible Specialty Metals. Electralloy. Republic Engineered Steels. Slater Steels. Talley Metals Technology. United Steelworkers of America.
A-570-836 | 731-TA-718 | Glycine/China | Chattem. Hampshire Chemical.
A-570-832 | 731-TA-696 | Pure magnesium/China | Dow Chemical. Magnesium Corporation of America. International Union of Operating Engineers (Local 564). United Steelworkers of America (Local 8319).
A-570-835 | 731-TA-703 | Furfuryl alcohol/China | QO Chemicals.
A-549-812 | 731-TA-705 | Furfuryl alcohol/Thailand | QO Chemicals.
A-821-807 | 731-TA-702 | Ferrovanadium and nitrided vanadium/Russia | Shieldalloy Metallurgical.
A-549-813 | 731-TA-706 | Canned pineapple/Thailand | Maui Pineapple. International Longshoreman's and Warehouseman's Union.
A-357-809 | 731-TA-707 | Seamless pipe/Argentina | Koppel Steel. Quanex. Timken. United States Steel.
A-351-826 | 731-TA-708 | Seamless pipe/Brazil | Koppel Steel. Quanex. Timken. United States Steel.
A-428-820 | 731-TA-709 | Seamless pipe/Germany | Koppel Steel. Quanex. Timken. United States Steel.
A-475-814 | 731-TA-710 | Seamless pipe/Italy | Koppel Steel. Quanex. Timken. United States Steel.
C-475-815 | 701-TA-362 | Seamless pipe/Italy | Koppel Steel. Quanex. Timken. United States Steel.
C-475-817 | 701-TA-364 | Oil country tubular goods/Italy | IPSCO. Koppel Steel. Lone Star Steel. Maverick Tube. Newport Steel. North Star Steel. U.S. Steel. USS/Kobe.
A-357-810 | 731-TA-711 | Oil country tubular goods/Argentina | IPSCO. Koppel Steel. Lone Star Steel. Maverick Tube. Newport Steel. North Star Steel. U.S. Steel. USS/Kobe.
A-475-816 | 731-TA-713 | Oil country tubular goods/Italy | Bellville Tube IPSCO. Koppel Steel. Lone Star Steel. Maverick Tube. Newport Steel. North Star Steel. U.S. Steel. USS/Kobe.
A-588-835 | 731-TA-714 | Oil country tubular goods/Japan | IPSCO. Koppel Steel. Lone Star Steel Co. Maverick Tube. Newport Steel. North Star Steel. U.S. Steel.
A-580-825 | 731-TA-715 | Oil country tubular goods/Korea | Bellville Tube. IPSCO. Koppel Steel. Lone Star Steel. Maverick Tube. Newport Steel. North Star Steel. U.S. Steel. USS/Kobe.
A-201-817 | 731-TA-716 | Oil country tubular goods/Mexico | IPSCO. Koppel Steel. Maverick Tube. Newport Steel. North Star Steel. U.S. Steel. USS/Kobe.
A-570-840 | 731-TA-724 | Manganese metal/China | Elkem Metals. Kerr-McGee.
A-570-842 | 731-TA-726 | Polyvinyl alcohol/China | Air Products and Chemicals.
A-588-836 | 731-TA-727 | Polyvinyl alcohol/Japan | Air Products and Chemicals.
A-583-824 | 731-TA-729 | Polyvinyl alcohol/Taiwan | Air Products and Chemicals.
A-588-838 | 731-TA-739 | Clad steel plate/Japan | Lukens Steel.
C-475-819 | 701-TA-365 | Pasta/Italy | A. Zerega's Sons. American Italian Pasta. Borden. D. Merlino & Sons. Dakota Growers Pasta. Foulds. Gilster-Mary Lee.
|  |  | Gooch Foods. Hershey Foods. Pasta USA. Philadelphia Macaroni. S.T. Specialty Foods.
C-489-806 | 701-TA-366 | Pasta/Turkey | A. Zerega's Sons. American Italian Pasta. Borden. D. Merlino & Sons. Dakota Growers Pasta. Foulds.
|  |  | Gilster-Mary Lee. Gooch Foods. Hershey Foods. Pasta USA. Philadelphia Macaroni. S.T. Specialty Foods.
A-475-818 | 731-TA-734 | Pasta/Italy | A. Zerega's Sons. American Italian Pasta. Borden. D. Merlino & Sons. Dakota Growers Pasta. Foulds.
|  |  | Gilster-Mary Lee. Gooch Foods. Hershey Foods. Pasta USA. Philadelphia Macaroni. S.T. Specialty Foods.
A-489-805 | 731-TA-735 | Pasta/Turkey | A. Zerega's Sons. American Italian Pasta. Borden. D. Merlino & Sons. Dakota Growers Pasta. Foulds.
|  |  | Gilster-Mary Lee. Gooch Foods. Hershey Foods. Pasta USA. Philadelphia Macaroni. S.T. Specialty Foods.
A-428-821 | 731-TA-736 | Large newspaper printing presses/Germany | Rockwell Graphics Systems.
A-588-837 | 731-TA-737 | Large newspaper printing presses/Japan | Rockwell Graphics Systems.
A-201-820 | 731-TA-747 | Fresh tomatoes/Mexico | Accomack County Farm Bureau Ad Hoc Group of Florida, California, Georgia, Pennsylvania, South Carolina, Tennessee, and Virginia Tomato Growers. Florida Farm Bureau Federation. Florida Fruit and Vegetable Association. Florida Tomato Exchange. Florida Tomato Growers Exchange. Gadsden County Tomato Growers Association. South Carolina Tomato Association.
A-588-839 | 731-TA-740 | Sodium azide/Japan | American Azide.
A-570-844 | 731-TA-741 | Melamine institutional dinnerware/China | Carlisle Food Service Products. Lexington United Plastics Manufacturing.
A-560-801 | 731-TA-742 | Melamine institutional dinnerware/Indonesia | Carlisle Food Service Products. Lexington United Plastics Manufacturing.
A-583-825 | 731-TA-743 | Melamine institutional dinnerware/Taiwan | Carlisle Food Service Products. Lexington United Plastics Manufacturing.
A-570-846 | 731-TA-744 | Brake rotors/China | Brake Parts. Coalition for the Preservation of American Brake Drum and Rotor Aftermarket Manufacturers. Kelsey Hayes. Kinetic Parts Manufacturing. Iroquois Tool Systems. Overseas Auto Parts. Wagner Brake.
A-489-807 | 731-TA-745 | Steel concrete reinforcing bar/Turkey | AmeriSteel. Auburn Steel. Birmingham Steel. Commercial Metals. Marion Steel. New Jersey Steel.
A-588-840 | 731-TA-748 | Gas turbo-compressor systems/Japan | Demag Delaval. Dresser-Rand. United Steelworkers of America.
A-570-847 | 731-TA-749 | Persulfates/China | FMC.
A-570-848 | 731-TA-752 | Crawfish tail meat/China | A&S Crawfish. Acadiana Fisherman's Co-op. Arnaudville Seafood. Atchafalaya Crawfish Processors. Basin Crawfish Processors. Bayou Land Seafood. Becnel's Meat & Seafood. Bellard's Poultry & Crawfish. Bonanza Crawfish Farm. Cajun Seafood Distributors. Carl's Seafood. Catahoula Crawfish. Choplin SFD. C.J.'s Seafood & Purged Crawfish. Clearwater Crawfish. Harvey's Seafood.
|  |  | Louisiana Premium Seafoods. Louisiana Seafood. Lawtell Crawfish Processors. Phillips Seafood. Prairie Cajun Wholesale Seafood Dist. Riceland Crawfish. Schexnider. Seafood International Distributors. Sylvester's Processors. Teche Valley Seafood. L.T. West. Crawfish Processors Alliance.
A-588-841 | 731-TA-750 | Vector supercomputers/Japan | Cray Research.
A-570-849 | 731-TA-753 | Cut-to-length carbon steel plate/China | Bethlehem Steel. Geneva Steel. Gulf States Steel. National Steel. U.S. Steel. United Steelworkers of America.
A-821-808 | 731-TA-754 | Cut-to-length carbon steel plate/Russia | Bethlehem Steel. Geneva Steel. Gulf States Steel. National Steel. U.S. Steel. United Steelworkers of America.
A-791-804 | 731-TA-755 | Cut-to-length carbon steel plate/South Africa | Bethlehem Steel. Geneva Steel. Gulf States Steel. National Steel. U.S. Steel. United Steelworkers of America.
A-823-808 | 731-TA-756 | Cut-to-length carbon steel plate/Ukraine | Bethlehem Steel. Geneva Steel. Gulf States Steel. National Steel. U.S. Steel. United Steelworkers of America.
A-570-850 | 731-TA-757 | Collated roofing nails/China | Illinois Tool Works. International Staple and Machines. Stanley-Bostitch.
A-583-826 | 731-TA-759 | Collated roofing nails/Taiwan | Illinois Tool Works. International Staple and Machines. Stanley-Bostitch.
A-583-827 | 731-TA-762 | SRAMs/Taiwan | Micron Technology.
A-337-803 | 731-TA-768 | Fresh Atlantic salmon/Chile | Atlantic Salmon of Maine. Cooke Aquaculture US. DE Salmon. Global Aqua USA. Island Aquaculture. Maine Coast Nordic. Scan Am Fish Farms. Treats Island Fisheries. Trumpet Island Salmon Farm.
C-475-821 | 701-TA-373 | Stainless steel wire rod/Italy | AL Tech Specialty Steel. Carpenter Technology. Republic Engineered Steels. Talley Metals Technology. United Steelworkers of America.
A-475-820 | 731-TA-770 | Stainless steel wire rod/Italy | AL Tech Specialty Steel. Carpenter Technology. Republic Engineered Steels. Talley Metals Technology. United Steelworkers of America.
A-588-843 | 731-TA-771 | Stainless steel wire rod/Japan | AL Tech Specialty Steel. Carpenter Technology. Republic Engineered Steels. Talley Metals Technology. United Steelworkers of America.
A-580-829 | 731-TA-772 | Stainless steel wire rod/Korea | AL Tech Specialty Steel. Carpenter Technology. Republic Engineered Steels. Talley Metals Technology. United Steelworkers of America.
A-469-807 | 731-TA-773 | Stainless steel wire rod/Spain | AL Tech Specialty Steel. Carpenter Technology. Republic Engineered Steels. Talley Metals Technology. United Steelworkers of America.
A-401-806 | 731-TA-774 | Stainless steel wire rod/Sweden | AL Tech Specialty Steel. Carpenter Technology. Republic Engineered Steels. Talley Metals Technology. United Steelworkers of America.
A-583-828 | 731-TA-775 | Stainless steel wire rod/Taiwan | AL Tech Specialty Steel. Carpenter Technology. Republic Engineered Steels. Talley Metals Technology. United Steelworkers of America.
A-337-804 | 731-TA-776 | Preserved mushrooms/Chile | L.K. Bowman. Modern Mushroom Farms. Monterey Mushrooms. Mount Laurel Canning. Mushroom Canning. Southwood Farms. Sunny Dell Foods. United Canning.
A-570-851 | 731-TA-777 | Preserved mushrooms/China | L.K. Bowman. Modern Mushroom Farms. Monterey Mushrooms. Mount Laurel Canning. Mushroom Canning. Southwood Farms. Sunny Dell Foods. United Canning.
A-533-813 | 731-TA-778 | Preserved mushrooms/India | L.K. Bowman. Modern Mushroom Farms. Monterey Mushrooms. Mount Laurel Canning. Mushroom Canning. Southwood Farms. Sunny Dell Foods. United Canning.
A-560-802 | 731-TA-779 | Preserved mushrooms/Indonesia | L.K. Bowman. Modern Mushroom Farms. Monterey Mushrooms. Mount Laurel Canning. Mushroom Canning. Southwood Farms. Sunny Dell Foods. United Canning.
C-423-809 | 701-TA-376 | Stainless steel plate in coils/Belgium | Allegheny Ludlum. Armco Steel. Lukens Steel. North American Stainless. United Steelworkers of America.
C-475-823 | 701-TA-377 | Stainless steel plate in coils/Italy | Allegheny Ludlum. Armco Steel. J&L Specialty Steel. Lukens Steel. North American Stainless. United Steelworkers of America.
C-791-806 | 701-TA-379 | Stainless steel plate in coils/South Africa | Allegheny Ludlum. Armco Steel. J&L Specialty Steel. Lukens Steel. North American Stainless. United Steelworkers of America.
A-423-808 | 731-TA-788 | Stainless steel plate in coils/Belgium | Allegheny Ludlum. Armco Steel. Lukens Steel. North American Stainless. United Steelworkers of America.
A-122-830 | 731-TA-789 | Stainless steel plate in coils/Canada | Allegheny Ludlum. Armco Steel. J&L Specialty Steel. Lukens Steel. North American Stainless.
A-475-822 | 731-TA-790 | Stainless steel plate in coils/Italy | Allegheny Ludlum. Armco Steel. J&L Specialty Steel. Lukens Steel. North American Stainless. United Steelworkers of America.
A-580-831 | 731-TA-791 | Stainless steel plate in coils/Korea | Allegheny Ludlum. Armco Steel. J&L Specialty Steel. Lukens Steel. North American Stainless. United Steelworkers of America.
A-791-805 | 731-TA-792 | Stainless steel plate in coils/South Africa | Allegheny Ludlum. Armco Steel. J&L Specialty Steel. Lukens Steel. North American Stainless. United Steelworkers of America.
A-583-830 | 731-TA-793 | Stainless steel plate in coils/Taiwan | Allegheny Ludlum. Armco Steel. J&L Specialty Steel. Lukens Steel. North American Stainless. United Steelworkers of America.
A-560-803 | 731-TA-787 | Extruded rubber thread/Indonesia | North American Rubber Thread.
A-588-846 | 731-TA-807 | Hot-rolled carbon steel flat products/ Japan | Acme Steel. Bethlehem Steel. California Steel Industries. Gallatin Steel. Geneva Steel. Gulf States Steel. IPSCO. Ispat/Inland. LTV Steel.
|  |  | Nucor. Rouge Steel Co. Steel Dynamics. U.S. Steel. WCI. Weirton Steel. Wheeling-Pittsburgh Steel Corp. Independent Steelworkers. United Steelworkers of America.
C-351-829 | 701-TA-384 | Hot-rolled carbon steel flat products/ Brazil | Acme SteelBethlehem Steel. California Steel Industries. Gallatin Steel. Geneva Steel. Gulf States Steel. IPSCO. Ispat/Inland. LTV Steel. National Steel.
|  |  | Nucor. Rouge Steel Co. Steel Dynamics. U.S. Steel. WCI. Weirton Steel. Wheeling-Pittsburgh Steel Corp. Independent Steelworkers. United Steelworkers of America.
A-351-828 | 731-TA-806 | Hot-rolled carbon steel flat products/Brazil | Acme Steel. Bethlehem Steel. California Steel Industries. Gallatin Steel. Geneva Steel. Gulf States Steel. IPSCO. Ispat/Inland. LTV Steel. National Steel.
|  |  | Nucor. Rouge Steel Co. Steel Dynamics. U.S. Steel. WCI. Weirton Steel. Wheeling-Pittsburgh Steel Corp. Independent Steelworkers. United Steelworkers of America.
A-821-809 | 731-TA-808 | Hot-rolled carbon steel flat products/Russia | Acme Steel. Bethlehem Steel. California Steel Industries. Gallatin Steel. Geneva Steel. Gulf States Steel. IPSCO. Ispat/Inland. LTV Steel. National Steel.
|  |  | Nucor. Rouge Steel Co. Steel Dynamics. U.S. Steel. WCI. Weirton Steel. Wheeling-Pittsburgh Steel Corp. Independent Steelworkers. United Steelworkers of America.
A-427-814 | 731-TA-797 | Stainless steel sheet and strip/France | Allegheny Ludlum. Armco Steel. Bethlehem Steel. Butler Armco Independent Union.
|  |  | Carpenter Technology Corp. North American Stainless. United Steelworkers of America. Zanesville Armco Independent Organization.
A-428-825 | 731-TA-798 | Stainless steel sheet and strip/Germany | Allegheny Ludlum. Armco Steel. Bethlehem Steel. J&L Specialty Steel. Butler Armco Independent Union.
|  |  | Carpenter Technology Corp. North American Stainless. United Steelworkers of America. Zanesville Armco Independent Organization.
A-475-824 | 731-TA-799 | Stainless steel sheet and strip/Italy | Allegheny Ludlum. Armco Steel. Bethlehem Steel. J&L Specialty Steel. Butler Armco Independent Union.
|  |  | Carpenter Tecnology Corp. North American Stainless. United Steelworkers of America. Zanesville Armco Independent Organization.
A-588-845 | 731-TA-800 | Stainless steel sheet and strip/Japan | Allegheny Ludlum. Armco Steel. Bethlehem Steel. J&L Specialty Steel. Butler Armco Independent Union.
|  |  | Carpenter Technology Corp. North American Stainless. United Steelworkers of America. Zanesville Armco Independent Organization.
A-580-834 | 731-TA-801 | Stainless steel sheet and strip/Korea | Allegheny Ludlum. Armco Steel. Bethlehem Steel. J&L Specialty Steel. Butler Armco Independent Union.
|  |  | Carpenter Technology Corp. North American Stainless. United Steelworkers of America. Zanesville Armco Independent Organization.
A-201-822 | 731-TA-802 | Stainless steel sheet and strip/Mexico | Allegheny Ludlum. Armco. Bethlehem Steel.
|  |  | Carpenter Technology Corp. J&L Specialty Steel. North American Stainless. United Steelworkers of America.
A-583-831 | 731-TA-803 | Stainless steel sheet and strip/Taiwan | Allegheny Ludlum. Armco Steel. Bethlehem Steel. J&L Specialty Steel. Butler Armco Independent Union.
|  |  | Carpenter Technology Corp. North American Stainless. United Steelworkers of America. Zanesville Armco Independent Organization.
A-412-818 | 731-TA-804 | Stainless steel sheet and strip/United Kingdom | Allegheny Ludlum. Armco Steel. Bethlehem Steel. J&L Specialty Steel. Butler Armco Independent Union.
|  |  | Carpenter Technology Corp. North American Stainless. United Steelworkers of America. Zanesville Armco Independent Organization.
C-427-815 | 701-TA-380 | Stainless steel sheet and strip/France | Allegheny Ludlum. Armco Steel. Bethlehem Steel. Butler Armco Independent Union.
|  |  | Carpenter Technology Corp. North American Stainless. United Steelworkers of America. Zanesville Armco Independent Organization.
C-475-825 | 701-TA-381 | Stainless steel sheet and strip/Italy | Allegheny Ludlum. Armco Steel. Bethlehem Steel. J&L Specialty Steel. Butler Armco Independent Union.
|  |  | Carpenter Technology Corp. North American Stainless. United Steelworkers of America. Zanesville Armco Independent Organization.
C-580-835 | 701-TA-382 | Stainless steel sheet and strip/Korea | Allegheny Ludlum. Armco Steel. Bethlehem Steel. J&L Specialty Steel. Butler Armco Independent Union.
|  |  | Carpenter Technology Corp. North American Stainless. United Steelworkers of America. Zanesville Armco Independent Organization.
A-570-852 | 731-TA-814 | Creatine monohydrate/China | Pfanstiehl Laboratories.
C-427-817 | 701-TA-387 | Cut-to-length carbon steel plate/France | Bethlehem Steel. Geneva Steel. IPSCO Steel. National Steel. U.S. Steel. United Steelworkers of America.
C-533-818 | 701-TA-388 | Cut-to-length carbon steel plate/India | Bethlehem Steel. Geneva Steel. Gulf States Steel. IPSCO Steel
|  |  | National Steel. Tuscaloosa Steel. U.S. Steel. United Steelworkers of America.
C-560-806 | 701-TA-389 | Cut-to-length carbon steel plate/Indonesia | Bethlehem Steel. Geneva Steel. Gulf States Steel. IPSCO Steel.
|  |  | National Steel. Tuscaloosa Steel. U.S. Steel. United Steelworkers of America.
C-475-827 | 701-TA-390 | Cut-to-length carbon steel plate/Italy | Bethlehem Steel. Geneva Steel. Gulf States Steel. IPSCO Steel. National Steel. U.S. Steel. United Steelworkers of America.
C-580-837 | 701-TA-391 | Cut-to-length carbon steel plate/Korea | Bethlehem Steel. Geneva Steel. Gulf States Steel. IPSCO Steel.
|  |  | National Steel. Tuscaloosa Steel. U.S. Steel. United Steelworkers of America.
A-427-816 | 731-TA-816 | Cut-to-length carbon steel plate/France | Bethlehem Steel. Geneva Steel. IPSCO Steel. National Steel. U.S. Steel. United Steelworkers of America.
A-533-817 | 731-TA-817 | Cut-to-length carbon steel plate/India | Bethlehem Steel. Geneva Steel. Gulf States Steel. IPSCO Steel.
|  |  | National Steel. Tuscaloosa Steel. U.S. Steel. United Steelworkers of America.
A-560-805 | 731-TA-818 | Cut-to-length carbon steel plate/Indonesia | Bethlehem Steel. Geneva Steel. Gulf States Steel. IPSCO Steel.
|  |  | National Steel. Tuscaloosa Steel. U.S. Steel. United Steelworkers of America.
A-475-826 | 731-TA-819 | Cut-to-length carbon steel plate/Italy | Bethlehem Steel. Geneva Steel. Gulf States Steel. IPSCO Steel. National Steel. U.S. Steel. United Steelworkers of America.
A-588-847 | 731-TA-820 | Cut-to-length carbon steel plate/Japan | Bethlehem Steel. Geneva Steel. Gulf States Steel. IPSCO Steel. Tuscaloosa Steel. U.S. Steel. United Steelworkers of America.
A-580-836 | 731-TA-821 | Cut-to-length carbon steel plate/Korea | Bethlehem Steel. Geneva Steel. Gulf States Steel. IPSCO Steel.
|  |  | National Steel. Tuscaloosa Steel. U.S. Steel. United Steelworkers of America.
A-507-502 | 731-TA-287 | Raw in-shell pistachios/Iran | Blackwell Land. California Pistachio Orchard. T.M. Duche Nut. Keenan Farms. Kern Pistachio Hulling & Drying. Los Ranchos de Poco Pedro. Pistachio Producers of California.
C-507-501 | None | Raw in-shell pistachios/Iran | Blackwell Land Co. Calif. Pistachio Commission. Calif. Pistachio Orchards. Cal Pure Pistachios, Inc. Keenan Farms, Inc.
|  |  | Kern Pistachio Hulling & Drying Co-op. Los Rancheros de Poco Pedro. Pistachio Producers of Calif. T.M. Duche Nut Co., Inc.
C-507-601 | None | Roasted in-shell pistachios/Iran | Calif. Pistachio Commission. Cal Pure Pistachios. Keenan Farms, Inc. Kern Pistachio Hulling & Drying Co-op. Pistachio Producers of Calif. T.M. Duche Nut Co., Inc.
A-821-811 | 731-TA-856 | Ammonium nitrate/Russia | Agrium. Air Products and Chemicals. Mississippi Chemical. El Dorado Chemical. Nitram. LaRoche. Wil-Gro Fertilizer.
A-580-839 | 731-TA-825 | Polyester staple fiber/Korea | E.I. du Pont de Nemours. Arteva Specialties S.a.r.l. Wellman. Intercontinental Polymers.
A-583-833 | 731-TA-826 | Polyester staple fiber/Taiwan | Arteva Specialties S.a.r.l. Wellman. Intercontinental Polymers.
A-570-855 | 731-TA-841 | Non-frozen apple juice concentrate/China | Coloma Frozen Foods. Green Valley Apples of California. Knouse Foods Coop. Mason County Fruit Packers Coop. Tree Top.
A-588-852 | 731-TA-853 | Structural steel beams/Japan | Northwestern Steel and Wire. Nucor. Nucor-Yamato Steel. TXI-Chaparral Steel. United Steelworkers of America.
C-580-842 | 701-TA-401 | Structural steel beams/Korea | Northwestern Steel and Wire. Nucor. Nucor-Yamato Steel. TXI-Chaparral Steel. United Steelworkers of America.
A-580-841 | 731-TA-854 | Structural steel beams/Korea | Northwestern Steel and Wire. Nucor. Nucor-Yamato Steel. TXI-Chaparral Steel. United Steelworkers of America.
A-570-856 | 731-TA-851 | Synthetic indigo/China | Buffalo Color. United Steelworkers of America.
A-588-850 | 731-TA-847 | Large-diameter carbon steel seamless pipe/Japan | North Star Steel. Timken. U.S. Steel. USS/Kobe. United Steelworkers of America.
A-588-851 | 731-TA-847 | Small-diameter carbon steel seamless pipe/Japan | Koppel Steel. North Star Steel. Sharon Tube. Timken.
|  |  | U.S. Steel. USS/Kobe. Vision Metals’ Gulf States Tube. United Steelworkers of America.
A-791-808 | 731-TA-850 | Small-diameter carbon steel seamless pipe/South Africa | Koppel Steel. North Star Steel. Sharon Tube. Timken.
|  |  | U.S. Steel. USS/Kobe. Vision Metals' Gulf States Tube. United Steelworkers of America.
A-485-805 | 731-TA-849 | Small-diameter carbon steel seamless pipe/Romania | Koppel Steel. North Star Steel. Sharon Tube. Timken.
|  |  | U.S. Steel. USS/Kobe. Vision Metals' Gulf States Tube. United Steelworkers of America.
A-201-827 | 731-TA-848 | Large-diameter carbon steel seamless pipe/Mexico | North Star Steel. Timken. U.S. Steel. USS/Kobe. United Steelworkers of America.
A-851-802 | 731-TA-846 | Small-diameter carbon steel seamless pipe/Czech Republic | Koppel Steel. North Star Steel. Sharon Tube. Timken.
|  |  | U.S. Steel. USS/Kobe. Vision Metals' Gulf States Tube. United Steelworkers of America.
A-570-853 | 731-TA-828 | Aspirin/China. | Rhodia.
A-580-812 | 731-TA-556 | DRAMs of 1 megabit and above/Korea | Micron Technology. NEC Electronics. Texas Instruments.
A-475-828 | 731-TA-865 | Stainless steel butt-weld pipe fittings/Italy | Markovitz Enterprises. Gerlin. Shaw Alloy Piping Products. Taylor Forge Stainless.
A-557-809 | 731-TA-866 | Stainless steel butt-weld pipe fittings/Malaysia | Markovitz Enterprises. Gerlin. Shaw Alloy Piping Products. Taylor Forge Stainless.
A-565-801 | 731-TA-867 | Stainless steel butt-weld pipe fittings/Philippines | Markovitz Enterprises. Gerlin. Shaw Alloy Piping Products. Taylor Forge Stainless.
A-588-856 | 731-TA-888 | Stainless steel angle/Japan | Slater Steels. United Steelworkers of America.
A-580-846 | 731-TA-889 | Stainless steel angle/Korea | Slater Steels. United Steelworkers of America.
A-469-810 | 731-TA-890 | Stainless steel angle/Spain | Slater Steels. United Steelworkers of America.
A-588-015 | AA1921-66 | Television receivers/Japan | AGIV (USA). Casio Computer. CBM America. Citizen Watch. Funai Electric. Hitachi. Industrial Union Department. Matsushita. Mitsubishi Electric.
|  |  | NEC. Orion Electric. J.C. Penny. Philips Electronics. Philips Magnavox. P.T. Imports. Sanyo.
|  |  | Sharp. Toshiba. Toshiba America Consumer Products. Victor Company of Japan. Montgomery Ward. Zenith Electronics.
A-822-804 | 731-TA-873 | Steel concrete reinforcing bar/Belarus | AmeriSteel. Auburn Steel. Birmingham Steel. Border Steel. CMC Steel Group. Co-Steel, Inc. Marion Steel.
|  |  | Nucor Steel. North Star Steel Co. Rebar Trade Action Coalition. Riverview Steel. Sheffield Steel.
A-570-860 | 731-TA-874 | Steel concrete reinforcing bar/China | AmeriSteel. Auburn Steel. Birmingham Steel. Border Steel. CMC Steel Group. Co-Steel, Inc.
|  |  | Marion Steel. Nucor Steel. North Star Steel Co. Rebar Trade Action Coalition. Riverview Steel. Sheffield Steel.
A-560-811 | 731-TA-875 | Steel concrete reinforcing bar/Indonesia | AmeriSteel. Birmingham Steel. Border Steel. CMC Steel Group. Co-Steel, Inc.
|  |  | Marion Steel. Nucor Steel. North Star Steel Co. Rebar Trade Action Coalition. Riverview Steel. Sheffield Steel.
A-580-844 | 731-TA-877 | Steel concrete reinforcing bar/Korea | AmeriSteel. Auburn Steel. Birmingham Steel. Border Steel. CMC Steel Group. Co-Steel, Inc.
|  |  | Marion Steel. Nucor Steel. North Star Steel Co. Rebar Trade Action Coalition. Riverview Steel. Sheffield Steel.
A-449-804 | 731-TA-878 | Steel concrete reinforcing bar/Latvia | AmeriSteel. Auburn Steel. Birmingham Steel. Border Steel. CMC Steel Group. Co-Steel, Inc.
|  |  | Marion Steel. Nucor Steel. North Star Steel Co. Rebar Trade Action Coalition. Riverview Steel. Sheffield Steel.
A-841-804 | 731-TA-879 | Steel concrete reinforcing bar/Moldova | AmeriSteel. Auburn Steel. Birmingham Steel. Border Steel. CMC Steel Group. Co-Steel, Inc.
|  |  | Marion Steel. Nucor Steel. North Star Steel Co. Rebar Trade Action Coalition. Riverview Steel. Sheffield Steel.
A-455-803 | 731-TA-880 | Steel concrete reinforcing bar/Poland | AmeriSteel. Auburn Steel. Birmingham Steel. Border Steel. CMC Steel Group. Co-Steel, Inc.
|  |  | Marion Steel. Nucor Steel. North Star Steel Co. Rebar Trade Action Coalition. Riverview Steel. Sheffield Steel.
A-823-809 | 731-TA-882 | Steel concrete reinforcing bar/Ukraine | AmeriSteel. Auburn Steel. Birmingham Steel. Border Steel. CMC Steel Group. Co-Steel, Inc.
|  |  | Marion Steel. Nucor Steel. North Star Steel Co. Rebar Trade Action Coalition. Riverview Steel. Sheffield Steel.
A-823-810 | 731-TA-894 | Ammonium nitrate/Ukraine | Agrium. Air Products and Chemicals. Committee for Fair Ammonium. Nitrate Trade. El Dorado Chemical.
|  |  | LaRoche Industries. Mississippi Chemicals. Nitram. Prodica.
A-570-862 | 731-TA-891 | Foundry coke/China | ABC Coke. Citizens Gas and Coke Utility. Erie Coke. Sloss Industries Corp. Tonawanda Coke. United Steelworkers of America.
C-357-815 | 701-TA-404 | Hot-rolled steel products/Argentina | Bethlehem Steel. Gallatin Steel. IPSCO. LTV Steel. National Steel. Nucor. Rouge Steel Co.
|  |  | Steel Dynamics. U.S. Steel. WCI Steel. Weirton Steel. Wheeling-Pittsburgh Steel Corp. Independent Steelworkers. United Steelworkers of America.
A-357-814 | 731-TA-898 | Hot-rolled steel products/Argentina | Bethlehem Steel. Gallatin Steel. IPSCO. LTV Steel. National Steel. Nucor. Rouge Steel Co.
|  |  | Steel Dynamics. U.S. Steel. WCI Steel. Weirton Steel. Wheeling-Pittsburgh Steel Corp. Independent Steelworkers. United Steelworkers of America.
A-791-809 | 731-TA-905 | Hot-rolled steel products/South Africa | Bethlehem Steel. Gallatin Steel. IPSCO. LTV Steel. National Steel. Nucor. Rouge Steel Co.
|  |  | Steel Dynamics. U.S. Steel. WCI Steel. Weirton Steel. Wheeling-Pittsburgh Steel Corp. Independent Steelworkers. United Steelworkers of America.
A-580-008 | 731-TA-134 | Color television receivers/Korea | Independent Radionic Workers of America. International Brotherhood of Electrical Workers. International Union of Electrical, Radio and Machine Workers. Industrial Union Department, AFL-CIO. Committee to Preserve American Color television.
A-583-009 | 731-TA-135 | Color television receivers/Taiwan | Independent Radionic Workers of America. International Brotherhood of Electrical Workers. International Union of Electrical, Radio and Machine Workers. Industrial Union Department, AFL-CIO. Committee to Preserve American Color Television.
A-122-006 | AA1921-49 | Steel jacks/Canada | Bloomfield Manufacturing (Harrah). Seaburn Metal Products.
A-588-029 | AA1921-85 | Fish netting of man-made fiber/Japan | Jovanovich Supply. LFSI. Trans-Pacific Trading.
A-588-038 | AA1921-98 | Bicycle speedometers/Japan | Avocet. Cat Eye. Diversified Products. N.S. International. Sanyo Electric. Stewart-Warner.
A-588-055 | AA1921-154 | Acrylic sheet/Japan | Polycast Technology.
C-351-037 | 104-TAA-21 | Cotton Yarn/Brazil | Harriet & Henderson Yarns. LaFar Industries. American Yarn Spinners Association.
A-588-005 | 731-TA-48 | High power microwave amplifiers/Japan | Aydin. MCL.
A-122-401 | 731-TA-196 | Red raspberries/Canada | Rader farms. Ron Roberts. Shuksan Frozen Food. Northwest Food Producers' Association.
|  |  | Oregon Caneberry Commission. Washington Red Raspberry Commission.
A-588-405 | 731-TA-207 | Cellular mobile telephones/Japan | E.F. Johnson. Motorola.
C-421-601 | 701-TA-278 | Fresh cut flowers/Netherlands | Burdette Coward. Gold Coast Uanko Nursery. Hollandia Wholesale Florist. Manatee Fruit. Monterey Flower Farms.
|  |  | Topstar Nursery. California Floral Council. Floral Trade Council. Florida Flower Association.
A-301-602 | 731-TA-329 | Fresh cut flowers/Colombia | Burdette Coward. Gold Coast Uanko Nursery. Hollandia Wholesale Florist. Manatee Fruit. Monterey Flower Farms.
|  |  | Pajaro Valley Greenhouses. Topstar Nursery. California Floral Council. Floral Trade Council. Florida Flower Association.
A-331-602 | 731-TA-331 | Fresh cut flowers/Ecuador | Burdette Coward. Gold Coast Uanko Nursery. Hollandia Wholesale Florist. Manatee Fruit. Monterey Flower Farms.
|  |  | Topstar Nursery. California Floral Council. Floral Trade Council. Florida Flower Association.
A-201-601 | 731-TA-333 | Fresh cut flowers/Mexico | Burdette Coward. Gold Coast Uanko Nursery. Hollandia Wholesale Florist. Manatee Fruit. Monterey Flower Farms.
|  |  | Topstar Nursery. California Floral Council. Floral Trade Council. Florida Flower Association.
A-401-603 | 731-TA-354 | Stainless steel hollow products/Sweden | AL Tech Specialty Steel. Allegheny Ludlum Steel. ARMCO. Carpenter Technology. Crucible Materials. Damacus Tubular Products. Specialty Tubing Group.
A-508-604 | 731-TA-366 | Industrial phosphoric acid/Israel | Albright & Wilson. FMC. Hydrite Chemical. Monsanto. Stauffer Chemical.
A-588-802 | 731-TA-389 | 3.5″ microdisks/Japan | Verbatim.
A-588-809 | 731-TA-426 | Small business telephone systems/Japan | American Telephone & Telegraph. Comdial. Eagle Telephonic.
A-583-806 | 731-TA-428 | Small business telephone systems/Taiwan | American Telephone & Telegraph. Comdial. Eagle Telephonic.
A-580-803 | 731-TA-427 | Small business telephone systems/Korea | American Telephone & Telegraph. Comdial. Eagle Telephonic.
A-570-811 | 731-TA-497 | Tungsten ore concentrates/China | Curtis Tungsten. U.S. Tungsten.
A-427-804 | 731-TA-553 | Hot-rolled lead and bismuth carbon steel products/France | Bethlehem Steel. Inland Steel Industries. USS/Kobe Steel.
C-427-805 | 701-TA-315 | Hot-rolled lead and bismuth carbon steel products/France | Bethlehem Steel. Inland Steel Industries. USS/Kobe Steel.
A-588-823 | 731-TA-571 | Professional electric cutting tools/Japan | Black & Decker.
A-821-805 | 731-TA-697 | Pure magnesium/Russia | Dow Chemical. Magnesium Corporation of America. International Union of Operating Engineers. United Steelworkers of America.
C-533-821 | 701-TA-405 | Hot-rolled steel products/India | Bethlehem Steel. Gallatin Steel. IPSCO. LTV Steel. National Steel. Nucor. Rouge Steel Co.
|  |  | Steel Dynamics. U.S. Steel. WCI Steel Inc. Weirton Steel. Wheeling-Pittsburgh Steel Corp. Independent Steelworkers. United Steelworkers of America.
C-560-813 | 701-TA-406 | Hot-rolled steel products/Indonesia | Bethlehem Steel. Gallatin Steel. IPSCO. LTV Steel. National Steel. Nucor. Rouge Steel Co.
|  |  | Steel Dynamics. U.S. Steel. WCI Steel Inc. Weirton Steel. Wheeling-Pittsburgh Steel Corp. Independent Steelworkers. United Steelworkers of America.
C-791-810 | 701-TA-407 | Hot-rolled steel products/South Africa | Bethlehem Steel. Gallatin Steel. IPSCO. LTV Steel. National Steel. Nucor. Rouge Steel Co.
|  |  | Steel Dynamics. U.S. Steel. WCI Steel Inc. Weirton Steel. Wheeling-Pittsburgh Steel Corp. Independent Steelworkers. United Steelworkers of America.
C-549-818 | 701-TA-408 | Hot-rolled steel products/Thailand | Bethlehem Steel. Gallatin Steel. IPSCO. LTV Steel. National Steel. Nucor. Rouge Steel Co.
|  |  | Steel Dynamics. U.S. Steel. WCI Steel Inc. Weirton Steel. Wheeling-Pittsburgh Steel Corp. Independent Steelworkers. United Steelworkers of America.
A-570-865 | 731-TA-899 | Hot-rolled steel products/China | Bethlehem Steel. Gallatin Steel. IPSCO. LTV Steel. National Steel. Nucor. Rouge Steel Co.
|  |  | Steel Dynamics. U.S. Steel. WCI Steel Inc. Weirton Steel. Wheeling-Pittsburgh Steel Corp. Independent Steelworkers. United Steelworkers of America.
A-533-820 | 731-TA-900 | Hot-rolled steel products/India | Bethlehem Steel. Gallatin Steel. IPSCO. LTV Steel. National Steel. Nucor. Rouge Steel Co.
|  |  | Steel Dynamics. U.S. Steel. WCI Steel Inc. Weirton Steel. Wheeling-Pittsburgh Steel Corp. Independent Steelworkers. United Steelworkers of America.
A-560-812 | 731-TA-901 | Hot-rolled steel products/Indonesia | Bethlehem Steel. Gallatin Steel. IPSCO. LTV Steel. National Steel. Nucor. Rouge Steel Co.
|  |  | Steel Dynamics. U.S. Steel. WCI Steel Inc. Weirton Steel. Wheeling-Pittsburgh Steel Corp. Independent Steelworkers. United Steelworkers of America.
A-834-806 | 731-TA-902 | Hot-rolled steel products/Kazakhstan | Bethlehem Steel. Gallatin Steel. IPSCO. LTV Steel. National Steel. Nucor. Rouge Steel Co.
|  |  | Steel Dymanics. U.S. Steel. WCI Steel Inc. Weirton Steel. Wheeling-Pittsburgh Steel Corp. Independent Steelworkers. United Steelworkers of America.
A-421-807 | 731-TA-903 | Hot-rolled steel products/Netherlands | Bethlehem Steel. Gallatin Steel. IPSCO. LTV Steel. National Steel. Nucor. Rouge Steel Co.
|  |  | Steel Dynamics. U.S. Steel. WCI Steel Inc. Weirton Steel. Wheeling-Pittsburgh Steel Corp. Independent Steelworkers. United Steelworkers of America.
A-485-806 | 731-TA-904 | Hot-rolled steel products/Romania | Bethlehem Steel. Gallatin Steel. IPSCO. LTV Steel. National Steel. Nucor. Rouge Steel Co.
|  |  | Steel Dynamics. U.S. Steel. WCI Steel Inc. Weirton Steel. Wheeling-Pittsburgh Steel Corp. Independent Steelworkers. United Steelworkers of America.
A-583-835 | 731-TA-906 | Hot-rolled steel products/Taiwan | Bethlehem Steel. Gallatin Steel. IPSCO. LTV Steel. National Steel. Nucor. Rouge Steel Co.
|  |  | Steel Dynamics. U.S. Steel. WCI Steel Inc.. Weirton Steel. Wheeling-Pittsburgh Steel Corp. Independent Steelworkers. United Steelworkers of America.
A-549-817 | 731-TA-907 | Hot-rolled steel products/Thailand | Bethlehem Steel. Gallatin Steel. IPSCO. LTV Steel. National Steel. Nucor. Rouge Steel Co.
|  |  | Steel Dynamics. U.S. Steel. WCI Steel Inc. Weirton Steel. Wheeling-Pittsburgh Steel Corp. Independent Steelworkers. United Steelworkers of America.
A-823-811 | 731-TA-908 | Hot-rolled steel products/Ukraine | Bethlehem Steel. Gallatin Steel. IPSCO. LTV Steel. National Steel. Nucor. Rouge Steel Co.
|  |  | Steel Dynamics. U.S. Steel. WCI Steel Inc. Weirton Steel. Wheeling-Pittsburgh Steel Corp. Independent Steelworkers. United Steelworkers of America.
A-570-864 | 731-TA-895 | Pure magnesium (granular)/China | Concerned Employees of Northwest Alloys. Magnesium Corporation of America. United Steelworkers of America. United Steelworkers of America (Local 8319).
A-588-857 | 731-TA-919 | Welded large diameter line pipe/Japan | American Cast Iron Pipe. Berg Steel Pipe. Bethlehem Steel. Napa Pipe/Oregon Steel Mills. Saw Pipes USA. Stupp. U.S. Steel.
A-201-828 | 731-TA-920 | Welded large diameter line pipe/Mexico | American Cast Iron Pipe. Berg Steel Pipe. Bethlehem Steel. Napa Pipe/Oregon Steel Mills. Saw Pipes USA. Stupp. U.S. Steel.
C-357-813 | 701-TA-402 | Honey/Argentina | Adee Honey Farms. Althoff Apiaries. Anderson Apiaries. Arroyo Apiaries. Artesian Honey Producers. Bailey Enterprises. Barkman Honey. Basler Honey Apiary. Beals Honey. Bears Paw Apiaries. Beaverhead Honey. Bee Biz. Bee Haven Honey.
|  |  | Belliston Brothers Apiaries. Big Sky Honey. Richard E. Blake. Gene Brand Apiaries. Curt Bronnenbery. Brown's Honey Farms. Brumley's Bees. Buhmann Apiaries. Carys Honey Farms. Chaparrel Honey. Mitchell Charles. Charles Apiaries.
|  |  | Collins Honey. Conor Apiaries. Coy's Honey Farm. Delta Bee. Eisele's Pollonation & Honey. Ellingsoa's. Elliott Curtis & Sons. Charles L. Emmons, Sr. Gause Honey.
|  |  | Griffith Honey. Haff Apiaries. Hamilton Bee Farms. Hamilton Honey. Happie Bee. Harvest Honey. Harvey's Honey.
|  |  | Hiatt Honey. Hoffman Honey. Hollman Apiaries. Honey House. Honeybee Apiaries. Gary M. Honl. Rand William Honl and Sydney Jo Honl. Jaynes Bee Products.
|  |  | Johnston Honey Farms. Ke-An Honey. Kent Honeybees. Lake-Indianhead Honey Farms. Lamb's Honey FarmLamb's Honey Farm. Laas Flores Apiaries. Mackrill Honey Farms. & Sales. Raymond Marquette. Mason & Sons Honey. McCoy's Sunny South Apiaries. Merrimack Valley Apiaries & Evergreen Honey.
|  |  | Met 2 Honey Farm. A.H. Meyer & Sons. Missouri River Honey. Mitchell Brothers Honey. Monda Honey farm. Montana Dakota Honey. Dave Nelson Apiaries. Northern Bloom Honey. Noye's Apiaries. Oakes Honey. Oakley Honey Farms.
|  |  | Old Mill Apiaries. Opp Honey. Oro Dulce. Steve E. Parks Apiaries. Peterson's Naturally Sweet Honey. Potoczak Bee Farms. Price Apiaries. Pure Sweet Honey Farms. Bill Rhodes Honey. Robertson Pollination Service.
|  |  | William Robson. Robson Honey. Rosedale Apiaries. Ryan Apiaries. Schmidt Honey Farms. Simpson Apiaries. James R. & Joan Smith Trust. Smoot Honey.
|  |  | Solby Honey. Stahlman Apiaries. Stroope Bee & Honey. T&D Honey Bee. Talbott;s Honey. Terry Apiaries. Thompson Apiaries. Triple A Farm. Tropical Blossom Honey.
|  |  | Tubbs Apiaries. Venable Wholesale. B. Weaver Apiaries. Wiebersiek Honey Farms. Walter L. Wilson Buzz 76 Apiaries. Wilmer Farms. Brent J. Woodworth. Wooten Golden Queens.
|  |  | Yaddof Apiaries. American Beekeeping Federation. American Honey Products Association. Sioux Honey Association.
A-357-812 | 731-TA-892 | Honey/Argentina. | Adee Honey Farms. Althoff Apiaries. Anderson Apiaries. Arroyo Apiaries. Artesian Honey Producers. Bailey Enterprises. Barkman Honey. Basler Honey Apiary. Beals Honey. Bears Paw Apiaries. Beaverhead Honey. Bee Biz. Bee Haven Honey.
|  |  | Belliston Brothers Apiaries. Big Sky Honey. Richard E. Blake. Gene Brandi Apiaries. Curt Bronnenbery. Brown's Honey Farms. Brumley's Bees. Buhmann Apiaries. Carys Honey Farms. Chaparrel Honey. Mitchell Charles.
|  |  | Charles Apiaries. Collins Honey. Conor Apiaries. Coy's Honey Farms. Delta Bee. Eisele's Pollination & Honey. Ellingsoa's. Elliott Curtis & Sons. Charles L. Emmons, SR. Gause Honey. Griffith Honey.
|  |  | Haff Apiaries. Hamilton Bee Farms. Hamilton Honey. Happie Bee. Harvest Honey. Harvey's Honey. Hiatt Honey.
|  |  | Hoffman Honey. Hollman Apiaries. Honey House. Honeybee Apiaries. Gary M. Honi. Rand William Honi and Sydney Jo Honi. American Beekeeping Federation. American Honey Producers.
|  |  | Jaynes Bee Products. Larry Johnston. Johnston Honey Farms. Ke-An Honey. Kent Honeybees. Lake Indianhead Honey Farms. Lamb's Honey Farms. Las Flores Apiaries. Mackrill Honey Farms. & Sales. Raymond Marquette. Mason & Sons Honey. McCoy's Sunny South Apiaries.
|  |  | Merrimack Valley Apiaries. & Evergreen Honey. Met 2 Honey Farm. A.H. Meyers & Sons. Missouri River Honey. Mitchell Brothers Honey. Monda Honey Farm. Montana Dakota Honey. Dave Nelson Apiaries. Northern Bloom Honey.
|  |  | Noye's Apiaries. Oakes Honey. Oakley Honey Farms. Old Mill Apiaries. Opp Honey. Oro Dulce. Steve E. Park Apiaries. Petersons Naturally Sweet Honey.
|  |  | Potoczak Bee Farms. Price Apiaries. Pure Sweet Honey Farm. Bill Rhodes Honey. Robertson Pollination Service. William Robson. Robson Honey. Rosedale Apiaries.
|  |  | Ryan Apiaries. Schmidt Honey Farms. Simpson Apiaries. James R. & Joan Smith Trust Smoot Honey. Solby Honey. Stahlman Apiaries. Stroope Bee & Honey. T&D Honey Bee.
|  |  | Talbott's Honey. Terry Apiaries. Thompson Apiaries. Triple-A Farm. Tropical Blossom Honey. Tubbs Apiaries. Venable Wholesale.
|  |  | B. Weaver Apiaries. Wiebersiek Honey Farms. Walter L. Wilson Buzz 76 Apiaries. Wilmer Farms. Brent J. Woodworth. Wooten's Golden Queens.
|  |  | Yaddof Apiaries. American Beekeeping Federation. American Honey Products Association. Sioux Honey Association.
A-570-863 | 731-TA-893 | Honey/China | Adee Honey Farms. Althoff Apiaries. Anderson Apiaries. Arroyo Apiaries. Artesian Honey Producers. Bailey Enterprises. Barkman Honey. Basler Honey Apiary. Beals Honey. Bears Paw Apiaries. Beaverhead Honey.
|  |  | Bee Biz. Bee Haven Honey. Belliston Brothers Apiaries. Big Sky Honey. Richard E. Blake. Gene Brandi Apiaries. Curt Bronnenbery. Brown's Honey Farms. Brumley's Bees. Buhmann Apiaries.
|  |  | Carys Honey Farms. Chaparrel Honey. Mitchell Charles. Charles Apiaries. Collins Honey. Conor Apiaries. Coy's Honey Farms. Delta Bee. Eisele's Pollination & Honey.
|  |  | Ellingsoa's. Elliott Curtis & Sons. Charles L. Emmons, Sr. Gause Honey. Griffith Honey. Haff Apiaries. Hamilton Bee Farms. Hamilton Honey. Happie Bee.
|  |  | Harvest Honey. Hiatt Honey. Hoffman Honey. Hollman Apiaries. Honey House. Honeybee Apiaries. Gary M. Honi. Rand William Honi and Sydney Jo Honi.
|  |  | Jaynes Bee Products. Larry Johnston. Johnston Honey Farms. Ke-An Honey. Kent Honeybees. Lake Indianhead Honey Farms. Lamb's Honey Farms. Las Flores Apiaries. Mackrill Honey Farms & Sales. Raymond Marquette.
|  |  | Mason & Sons Honey. McCoy's Sunny South Apiaries. Merrimack Valley Apiaries & Evergreen Honey. Met 2 Honey Farm. A.H. Meyers & Sons. Missouri River Honey. Mitchell Brothers Honey. Monda Honey Farm. Montana Dakota Honey.
|  |  | Dave Nelson Apiaries. Northern Bloom Honey. Noye's Apiaries. Oakes Honey. Oakley Honey Farms. Old Mill Apiaries. Opp Honey. Oro Dulce. Steve E. Park Apiaries.
|  |  | Peterson's Naturally Sweet Honey. Potoczak Bee Farms. Price Apiaries. Pure Sweet Honey Farm. Bill Rhodes Honey. Robertson Pollination Service. William Robson. Robson Honey. Rosedale Apiaries.
|  |  | Ryan Apiaries. Schmidt Honey Farms. Simpson Apiaries. James R. & Joann Smith Trust. Smoot Honey. Solby Honey. Stahlman Apiaries. Stroope Bee & Honey. T&D Honey Bee.
|  |  | Talbott's Honey. Terry Apiaries. Thompson Apiaries. Triple-A Farm. Tropical Blossom Honey. Tubbs Apiaries. Venable Wholesale. B. Weaver Apiaries.
|  |  | Wiebersiek Honey Farms. Walter L. Wilson Buzz 76 Apiaries. Wilmer Farms. Brent J. Woodworth. Wooten's Golden Queens. Yaddof Apiaries.
|  |  | American Beekeeping Federation. American Honey Producers Association. Sioux Honey Association.
A-122-838 | 731-TA-928 | Softwood lumber/Canada | 71 Lumber Co. Almond Bros. Lbr. Co. Anthony Timberlands. Balfour Lbr. Co. Ball Lumber. Banks Lumber Company. Barge Forest Products Co. Beadles Lumber Co. Buddy Bean Lumber. Bearden Lumber. Guy Bennett Lumber. Bennett Lumber. Big Valley Band Mill.
|  |  | Bighorn Lumber Co. Inc. Blue Mountain Lumber. Burgin Lumber Co. Burt Lumber Company. C&D Lumber Co. C.M. Yucker Lumber Corp. Ceda-Pine Veneer. Cersosimo Lumber Co., Inc. Charles Ingram Lumber Co. Inc. Charleston Heart Pine.
|  |  | Chesterfield Lumber. Chips. Chocorua Valley Lumber Co. Clearwater Forest Industries. CLW, Inc. Cody Lumber Co. Collins Pine Co. Collums Lumber. Columbus Lumber Co. Contoocook River Lumber.
|  |  | Cornwright Lumber Co. Daniels Lumber Inc. Dean Lumber Co., Inc. Deltic Lumber Corp. Devils Tower Forest Products. DiPrizio Pine Sales. Dorchester Lumber Co. East Brainerd Lumber Co. East Coast Lumber Company.
|  |  | Eas-Tex Lumber. ECK Wood Products. Ellingson Lumber Co. Elliott Sawmilling. Empire Lumber Co. Evergreen Forest Products. Excalibur Shelving Systems Inc. Exley Lumber Co. F.H. Stoltze Land & Lumber Co. F.L. Turlington Lbr. Co. Inc.
|  |  | Fleming Lumber. Flippo Lumber. Floragen Forest Products. Frank Lumber Co. Franklin Lumber Co. Fremont Sawmill. Frontier Resources. Garrison Brothers Lumber Co. Georgia Lumber.
|  |  | Gilman Building Products. Godfrey Lumber. Granite State Forest Prod. Inc. Great Western Lumber Co. Greenville Molding Inc. Griffin Lumber Company. Guess Brothers Lumber. Conway Guiteau Lumber. Gulf Lumber.
|  |  | Gulf States Paper. Ralph Hamel Forest Products. H.G. Toler & Son Lumber Co. H.G. Wood Industries, LLC. H.S. Hofler & Sons Lumber Co. Inc. H.W. Culp Lumber Co. Hampton Resources. Hancock Lumber. Hankins Inc. Hankins Lumber Co. Harrigan Lumber.
|  |  | Harwood Products. Haskell Lumber Inc. Hatfield Lumber. Hedstrom Lumber. Herrick Millwork Inc. Hogan & Storey Wood Products. Hogan Lumber Co. Hood Industries. Claude Howard Lumber. Hubbard Forest Ind. Inc.
|  |  | Idaho Veneer Co. Industrial Wood Products. Intermountain Res. LLC. International Paper. D.R. Johnson Lumber. J. Franklin Jones Lumber Co., Inc. J.D. Martin Lumber Co. J.E. Jones Lumber Co. J.H. Knighton Lumber Co.
|  |  | J.P. Haynes Lbr. Co. Inc. J.W. Jones Lumber. Jack Batte & Sons, Inc. Jasper Lumber Company. Johnson Lumber Company. Jordan Lumber & Supply. Joseph Timber Co. Keadle Lumber Enterprises. Keller Lumber. King Lumber Co.
|  |  | Konkolville Lumber. Langdale Forest Products. Laurel Lumber Company. Leavitt Lumber Co. Leesville Lumber Co. Limington Lumber Co. Longview Fibre Co. Lovell Lumber Co. Inc. M. Kendall Lumber Co. M.B. Heath & Sons Lumber Co.
|  |  | M.C. Dixon Lumber Co. Manke Lumber Co. Marriner Lumber Co. Mason Lumber. Mebane Lumber Co. Inc. Randy D. Miller Lumber. Millry Mill Co. Inc. Moose Creek Lumber Co. Moose River Lumber.
|  |  | Morgan Lumber Co. Inc. Mount Yonah Lumber Co. Nagel Lumber. New Kearsarge Corp. New South. Nicolet Hardwoods. Nieman Sawmills SD. Nieman Sawmills WY.
|  |  | North Florida. Northern Lights Timber & Lumber. Northern Neck Lumber Co. Ochoco Lumber Co. Olon Belcher Lumber Co. Owens & Hurst Lumber. Packaging Corp. of America. Page & Hill Forest Products.
|  |  | Parker Lumber. Pate Lumber Co. Inc. PBS Lumber. Pedigo Lumber Co. Piedmont Hardwood Lumber Co. Pine River Lumber Co. Pinecrest Lumber Co. Pleasant Western Lumber Inc.
|  |  | Pine River Lumber Co. Pinecrest Lumber Co. Pleasant Western Lumber, Inc. Plum Creek Timber. Pollard Lumber. Portac. Potlatch. Potomac Supply. Precision Lumber, Inc. Pruitt Lumber Inc.
|  |  | R. Leon Williams Lumber Co. Rajala Timber Co. Rappahannock Lumber Co. Regulus Stud Mills, Inc. Riley Creek Lumber. Robbins Lumber. Roanoke Lumber Co. Robertson Lumber.
|  |  | Roseburg Forest Products Co. Rough & Ready. RSG Forest Products. Rushmore Forest Products. RY Timber Inc. Sam Mabry Lumber Co. Scotch Lumber. Seacoats Mills, Inc. Seago Lumber. Seattle-Snohomish. Seneca Sawmill.
|  |  | Shaver Wood Products. Shearer Lumber Products. Shuqualak Lumber. Sierra Pacific Industries. Sigfrisson Wood Products. Silver City Lumber Inc. Somers Lbr. & Mfg. Inc. South & Jones.
|  |  | South Coast. Southern Forest Industries, Inc. Southern Lumber. St. Laurent Forest Products. Steely Lumber Co. Inc. Stimson Lumber. S.I. Story Lumber. Summit Timber Co.
|  |  | Sundance Lumber. Superior Lumber. Swanson Superior Forest Products. Swift Lumber. T.R Miller Mill Co. Tamarack Mill. Taylor Lumber & Treating Inc. Fred Tebb & Sons. Temple-Inland Forest Products. Thompson River Products. Three Rivers Timber. Thrift Brothers Lumber Co. Inc. Timco Inc.
|  |  | Tolleson Lumber. Toney Lumber. Tradewinds of Virginia Ltd. Travis Lumber Co. Tree Source Industries Inc. Tri-State Lumber. TTT Studs. V.P. Kiser Co. Viking Lumber Co. Jerry G. Williams & Sons.
|  |  | W.M. Shepherd Lumber Co. W.R. Robinson Lumber Co. Inc. Walton Lumber Co. Inc. Warm Springs Forest Products. Wilkens, Kaiser & Olsen, Inc. Wrenn Brothers Inc. Wyoming Sawmills. Yakama Forest Products. R.A. Yancey Lumber. Younce & Ralph Lumber Co. Inc.
|  |  | Zip-O-Log Mills Inc. Coalition for Fair Lumber Imports Executive Committee. Paper, Allied-Industrial, Chemical and Energy Workers International Union. United Brotherhood of Carpenters and Joiners.
C-122-839 | 701-TA-414 | Softwood lumber/Canada | 71 Lumber Co. Almond Bros. Lbr. Co. Anthony Timberlands. Balfour Lbr. Co. Ball Lumber. Banks Lumber Co. Barge Forest Products Co. Beadles Lumber Co. Buddy Bean Lumber. Bearden Lumber.
|  |  | Guy Bennett Lumber. Bennett Lumber. Big Valley Band Mill. Bighorn Lumber Co. Inc. Blue Mountain Lumber. Burgin Lumber Co. Ltd. Burt Lumber Company. C&D Lumber Co. C.M. Tucker Lumber Corp. Ceda-Pine Veneer.
|  |  | Cersosimo Lumber Co. Inc. Charles Ingram Lumber Co. Inc. Charleston Heart Pine. Chesterfield Lumber. Chips. Chocorua Valley Lumber Co. Clearwater Forest Industries. CLW Inc. Cody Lumber Co. Collins Pine Co.
|  |  | Collums Lumber. Columbus Lumber Co. Contoocook River Lumber. Cornwright Lumber Co. Daniels Lumber Inc. Dean Lumber Co. Inc. Deltic Timber Corporation. Devils Tower Forest Products. DiPrizio Pine Sales.
|  |  | Dorchester Lumber Co. East Brainerd Lumber Co. East Coast Lumber Company. Eas-Tex Lumber. ECK Wood Products. Ellingson Lumber Co. Elliott Sawmilling.
|  |  | Empire Lumber Co. Evergreen Forest Products. Excaliber Shelving Systems, Inc. Exley Lumber Co. F.H. Stoltze Land & Lumber Co. F.L. Turlington Lbr. Co. Inc.
|  |  | F.H. Stoltze Land & Lumber Co. F.L. Turlington Lbr. Co. Inc. Fleming Lumber. Flippo Lumber. Floragen Forest Products. Frank Lumber Co. Franklin Timber Co. Fremont Sawmill. Frontier Resources. Garrison Brothers Lumber Co. & Subsidiaries.
|  |  | Georgia Lumber. Gilman Building Products. Godfrey Lumber. Granite State Forest Products Inc. Great Western Lumber Co. Greenville Molding Inc. Griffin Lumber Company. Guess Brothers Lumber.
|  |  | Conway Guiteau Lumber. Gulf Lumber. Gulf States Paper. Ralph Hamel Forest Products. H.G. Toler & Son Lumber Co. H.G Wood Industries, LLC. H.S. Hofler & Sons Lumber Co. Inc. H.W. Culp Lumber Co. Hampton Resources. Hancock Lumber.
|  |  | Hankins Inc. Hankins Lumber Co. Harrigan Lumber. Harwood Products. Haskell Lumber Inc. Hatfield Lumber. Hedstrom Lumber. Herrick Millwork Inc. Hogan & Storey Wood Prod.
|  |  | Hogan Lumber Co. Hood Industries. Claude Howard Lumber. Hubbard Forest Ind. Inc. Idaho Veneer Co. Industrial Wood Products. Intermountain Res. LLC.
|  |  | International Paper. D.R Johnson Lumber. J. Franklin Jones Lumber Co. Inc. J.D. Martin Lumber Co. J.E. Jones Lumber Co. J.H. Knighton Lumber Co. J.P. Haynes Lumber Co. Inc. J.W. Jones Lumber.
|  |  | Jack Batte & Sons, Inc. Jasper Lumber Company. Johnson Lumber Company. Jordan Lumber & Supply. Joseph Timber Co. Keadle Lumber Enterprises. Keller Lumber.
|  |  | King Lumber Co. Konkolville Lumber Langdale Forest Products. Laurel Lumber Company. Leavitt Lumber Co. Leesville Lumber Co. Limington Lumber Co. Longview Fibre Co.
|  |  | Lovell Lumber Co. Inc. M. Kendall Lumber Co. M.B. Heath & Sons Lumber Co. M.C. Dixon Lumber Co. Inc. Manke Lumber Co. Marriner Lumber Co. Mason Lumber. Mebane Lumber Co. Inc. Randy D. Miller Lumber.
|  |  | Millry Mill Co. Inc. Moose Creek Lumber Co. Moose River Lumber. Morgan Lumber Co. Inc. Mount Yonah Lumber Co. Nagel Lumber. New Kearsarge Corp. New South.
|  |  | Nicolet Hardwoods. Nieman Sawmills SD. Nieman Sawmills WY. North Florida. Northern Lights Timber & Lumber. Northern Neck Lumber Co. Ochoco Lumber Co. Olon Belcher Lumber Co.
|  |  | Owens & Hurst Lumber. Packaging Corp. of America. Page & Hill Forest Products. Parker Lumber. Pate Lumber Co. Inc. PBS Lumber. Pedigo Lumber Co. Piedmont Hardwood Lumber Co. Pine River Lumber Co. Pinecrest Lumber Co.
|  |  | Pleasant Western Lumber, Inc. Plum Creek Timber. Pollard Lumber. Portac. Potlatch. Potomac Supply. Precision Lumber, Inc. Pruitt Lumber Inc.
|  |  | R. Leon Williams Lumber Co. Rajala Timber Co. Rappahannock Lumber Co. Regulus Stud Mills, Inc. Riley Creek Lumber. Robbins Lumber. Roanoke Lumber Co. Robertson Lumber. Roseburg Forest Products Co. Rough & Ready.
|  |  | RSG Forest Products. Rushmore Forest Products. RY Timber Inc. Sam Mabry Lumber Co. Scotch Lumber. Seacoats Mills, Inc. Seago Lumber. Seattle-Snohomish. Seneca Sawmill. Shaver Wood Products.
|  |  | Shearer Lumber Products. Shuqualak Lumber. Sierra Pacific Industries. Sigfrisson Wood Products. Silver City Lumber Inc. Somers Lbr. & Mfg. Inc. South & Jones. South Coast.
|  |  | Southern Forest Industries, Inc. Southern Lumber. St. Laurent Forest Products. Steely Lumber Co. Inc. Stimson Lumber. S.I. Story Lumber.
|  |  | Summit Timber Co. Sundance Lumber. Superior Lumber. Swanson Superior Forest Prod. Inc. Swift Lumber. T.R Miller Mill Co. Tamarack Mill.
|  |  | Swift Lumber. T.R. Miller Mill Co. Tamarack Mill. Taylor Lumber & Treating, Inc. Fred Tebb & Sons. Temple-Inland Forest Products. Thompson River Lumber. Three Rivers Timber. Thrift Brothers Lumber Co. Inc.
|  |  | Timco, Inc. Tolleson Lumber. Toney Lumber. Tradewinds of Virginia Ltd. Travis Lumber Co. Tree Source Industries Inc. Tri-State Lumber. TTT Studs.
|  |  | V.P. Kiser Lumber Co. Viking Lumber Co. Jerry G. Williams & Sons. W.M. Shepherd Lumber Co. W.R. Robinson Lumber Co. Inc. Walton Lumber Co. Inc. Warm Springs Forest Products. Wilkens, Kaiser & Olsen, Inc.
|  |  | Wrenn Brothers, Inc. Wyoming Sawmills. Yakama Forest Products. R.A. Yancey Lumber. Younce & Ralph Lumber Co. Inc. Zip-O-Log Mills, Inc.
|  |  | Coalition for Fair Lumber Imports Executive Committee Paper, Allied-Industrial, Chemical and Energy Workers International Union. United Brotherhood of Carpenters and Joiners.
A-533-823 | 731-TA-929 | Silicomanganese/Canada | Eramet Marietta. Paper, Allied-Industrial, Chemical and Energy Workers International Union, Local 5-0639.
A-834-807 | 731-TA-930 | Silicomanganese/Kazakhstan | Eramet Marietta. Paper, Allied-Industrial, Chemical and Energy Workers International, Local 5-0639.
A-307-820 | 731-TA-931 | Silicomanganese/Venezuela | Eramet Marietta. Paper, Allied-Industrial, Chemical and Energy Workers International Union, Local 5-0639.
A-570-868 | 731-TA-932 | Folding metal tables and chairs/China | Krueger International. McCourt Manufacturing. Meco. Virco Manufacturing.
C-533-825 | 731-TA-415 | Polyethylene terephthalate film, sheet and strip (PET film)/India | DuPont Teijin Films. Mitsubishi Polyester Film, LLC. Toray Plastics (America).
A-533-824 | 731-TA-933 | Polyethylene terephthalate film, sheet, and strip (PET film)/India | DuPont Teijin Films. Mitsubishi Polyester Film, LLC. Toray Plastics (America).
A-583-837 | 731-TA-934 | Polyethylene terephthalate film, sheet and strip (PET film)/Taiwan | DuPont Teijin Films. Mitsubishi Polyester Film, LLC. Toray Plastics (America).
A-337-806 | 731-TA-948 | Individually quick frozen red rasberries/Chile | A&A Berry Farms. Bahler Farms. Bear Creek Farms. David Burns. Columbia Farms. Columbia Fruit. George Culp. Dobbins Berry Farm. Enfield. Firestone Packing.
|  |  | Heckel Farms. George Hoffman Farms. Wendell Kreder. Curt Maberry. Maberry Packing. Mike & Jean's. Nguyen Berry Farms. Nick's Acres. North Fork. Parson Berry Farm. Pickin 'N' Pluckin. Postage Stamp Farm.
|  |  | Rader. RainSweet. Scenic Fruit. Silverstar Farms. Tim Straub. Theony Farms. Townsend. Tsugawa Farms. Updike Berry Farms. Van Laeken Farms.
A-570-866 | 731-TA-921 | Folding gift boxes/China | Field Container. Harvard Folding Box. Sterling Packaging. Superior Packaging.
A-427-818 | 731-TA-909 | Low enriched uranium/France | USEC.
C-427-819 | 701-TA-409 | Low enriched uranium/France | USEC.
C-428-829 | 701-TA-410 | Low enriched uranium/Germany | USEC.
C-421-809 | 701-TA-411 | Low enriched uranium/Netherlands | USEC.
C-412-821 | 701-TA-412 | Low enriched uranium/ United Kingdom | USEC.
A-427-820 | 731-TA-913 | Stainless steel bar/France | Carpenter Technology. Crucible Specialty Metals. Electralloy Empire Specialty Steel. Republic Technologies International. Slater Steels. United Steelworkers of America.
A-428-830 | 731-TA-914 | Stainless steel bar/Germany | Carpenter Technology. Crucible Specialty Metals. Electralloy Empire Specialty Steel. Republic Technologies International. Slater Steels. United Steelworkers of America.
A-475-829 | 731-TA-915 | Stainless steel bar/Italy | Carpenter Technology. Crucible Specialty Metals. Electralloy Empire Specialty Steel. Republic Technologies International. Slater Steels. United Steelworkers of America.
A-580-847 | 731-TA-916 | Stainless steel bar/Korea | Carpenter Technology. Crucible Specialty Metals. Electralloy Empire Specialty Steel. Republic Technologies International. Slater Steels. United Steelworkers of America.
A-412-822 | 731-TA-918 | Stainless steel bar/United Kingdom | Carpenter Technology. Crucible Specialty Metals. Electralloy. Empire Specialty Steel. Republic Technologies International. Slater Steels. United Steelworkers of America.
C-475-830 | 701-TA-413 | Stainless steel bar/Italy | Carpenter Technology. Crucible Specialty Metals. Electralloy. Empire Specialty Steel. Republic Technologies International. Slater Steels. United Steelworkers of America.
A-570-867 | 731-TA-922 | Automotive replacement glass windshields/China | Apogee Enterprises. PPG Industries. Safelite Glass. Visteon Corporation.
A-570-873 | 731-TA-986 | Ferrovanadium/China | Bear Metallurgical Corp. Shieldalloy Metallurgical Corp.
A-791-815 | 731-TA-987 | Ferrovanadium/South Africa | Bear Metallurgical Co. Shieldalloy Mtallurgical Corp.
C-351-833 | 701-TA-417 | Carbon and certain alloy steel wire rod/Brazil | AmeriSteel. Birmingham Steel. Cascade Steel Rolling Mills. Connecticut Steel Corp. Co-Steel Raritan. GS Industries. Keystone Consolidated Industries. North Star Steel Texas. Republic Technologies International. Rocky Mountain Steel Mills.
C-122-841 | 701-TA-418 | Carbon and certain alloy steel wire rod/Canada | AmeriSteel. Birmingham Steel. Cascade Steel Rolling Mills. Connecticut Steel Corp. Co-Steel Raritan. GS Industries. Keystone Consolidated Industries. North Star Steel Texas. Republic Technologies International. Rocky Mountain Steel Mills.
A-351-832 | 731-TA-953 | Carbon and certain alloy steel wire rod/Brazil | AmeriSteel. Birmingham Steel. Cascade Steel Rolling Mills. Connecticut Steel Corp. Co-Steel Raritan. GS Industries. Keystone Consolidated Industries. North Star Steel Texas. Republic Technologies International. Rocky Mountain Steel Mills.
A-122-840 | 731-TA-954 | Carbon and certain alloy steel wire rod/Canada | AmeriSteel. Birmingham Steel. Cascade Steel Rolling Mills. Connecticut Steel Corp. Co-Steel Raritan. GS Industries. Keystone Consolidated Industries. North Star Steel Texas. Republic Technologies International. Rocky Mountain Steel Mills.
A-560-815 | 731-TA-957 | Carbon and certain alloy steel wire rod/Indonesia | AmeriSteel. Birmingham Steel. Cascade Steel Rolling Mills. Connecticut Steel Corp. Co-Steel Raritan. GS Industries. Keystone Consolidated Industries. North Star Steel Texas. Republic Technologies International. Rocky Mountain Steel Mills.
A-201-830 | 731-TA-958 | Carbon and certain alloy steel wire rod/Mexico | AmeriSteel. Birmingham Steel. Cascade Steel Rolling Mills. Connecticut Steel Corp. Co-Steel Raritan. GS Industries. Keystone Consolidated Industries. North Star Steel Texas. Republic Technologies International. Rocky Mountain Steel Mills.
A-841-805 | 731-TA-959 | Carbon and certain alloy steel wire rod/Moldova | AmeriSteel. Birmingham Steel. Cascade Steel Rolling Mills. Connecticut Steel Corp. Co-Steel Raritan. GS Industries. Keystone Consolidated Industries. North Star Steel Texas. Republic Technologies International. Rocky Mountain Steel Mills.
A-274-804 | 731-TA-961 | Carbon and certain alloy steel wire rod/Trinidad & Tobago | AmeriSteel. Birmingham Steel. Cascade Steel Rolling Mills. Connecticut Steel Corp. Co-Steel Raritan. GS Industries. Keystone Consolidated Industries. North Star Steel Texas. Republic Technologies International. Rocky Mountain Steel Mills.
A-823-812 | 731-TA-962 | Carbon and certain alloy steel wire rod/Ukraine | AmeriSteel. Birmingham Steel. Cascade Steel Rolling Mills. Connecticut Steel Corp. Co-Steel Raritan. GS Industries. Keystone Consolidated Industries. North Star Steel Texas. Republic Technologies International. Rocky Mountain Steel Mills.
C-437-805 | 701-TA-426 | Sulfanilic acid/Hungary | Nation Ford Chemical.
A-437-804 | 731-TA-426 | Sulfanilic acid/Hungary | Nation Ford Chemical.
A-471-806 | 731-TA-427 | Sulfanilic acid/Portugal | Nation Ford Chemical.
A-821-817 | 731-TA-991 | Silicon metal/Russia | Globe Metallurgical Inc. SIMCALA, Inc.
A-570-875 | 731-TA-990 | Non-malleable cast iron pipe fittings/China | Anvil International, Inc. Buck Co., Inc. Frazier & Frazier Industries. Ward Manufacturing, Inc.
A-570-877 | 731-TA-1010 | Lawn & garden steel fence posts/China | Steel City Corp.
A-588-861 | 731-TA-1016 | Polyvinyl alcohol/Japan | Celenex Ltd. E. I. DuPont de Nemours & Co.
A-570-878 | 731-TA-1013 | Saccharin/China | PMC Specialties Group., Inc.
A-552-801 | 731-TA-1012 | Certain Frozen Fish Fillets/Viet Nam | America's Catch Inc. Aquafarms Catfish, Inc. Carolina Classics Catfish, Inc. Consolidated Catfish Companies, Inc. Fish Processors, Inc. Guidry's Catfish, Inc. Haring's Pride Catfish. Harvest Select Catfish (Alabama Catfish, Inc.). Heartland Catfish Co. (TT&W Farm Products, Inc.). Prairie Lands Seafood (Illinois Fish Farmers Cooperative). Pride of the Pond. Pride of the South Catfish, Inc. Prime Line, Inc. Seabrook Seafood, Inc. Seacat (Arkansas Catfish Growers). Simmons Farm Raised Catfish, Inc. Southern Pride Catfish, LLC.
C-580-851 | 701-TA-431 | DRAMS and DRAM Modules/Korea | Dominion Semiconductor, LLC/Micron Technology, Inc. Infineon Technologies Richmond, LP. Micron Technology, Inc.
A-570-880 | 731-TA-1020 | Barium Carbonate/China | Chemical Products Corp.
A-570-849 | 731-TA-753 | Cut-to-length Carbon Steel Plate/China | Geneva. Gulf.
A-122-847 | 731-TA-1019B | Hard Red Spring Wheat/Canada | North Dakota Wheat Commission.
C-122-848 | 701-TA-430B | Hard Red Spring Wheat/Canada | North Dakota Wheat Commission.
A-570-879 | 731-TA-1014 | Polyvinyl Alcohol/China | Celanese Ltd. E.I. du Pont de Nemours & Co.
A-580-850 | 731-TA-1017 | Polyvinyl Alcohol/Korea | Celanese Ltd. E.I. du Pont de Nemours & Co.
A-570-881 | 731-TA-1021 | Malleable Iron Pipe Fittings/China | Anvil International, Inc. Buck Co., Inc. Ward Manufacturing, Inc.
A-570-882 | 731-TA-1022 | Refined Brown Aluminum Oxide/China | C-E Minerals. Treibacher Schleifmittel North America, Inc. Washington Mills Co., Inc.
A-588-862 | 731-TA-1023 | Certain Ceramic Station Post Insulators/Japan | Lapp Insulator Co., LLC. Newell Porcelain Co., Inc. Victor Insulators, Inc.
C-533-829 | 701-TA-432 | Prestressed Concrete Steel Wire Strand/India | American Spring Wire Corp. Insteel Wire Products Co. Sivaco Georgia, LLC. Strand Tech Martin, Inc. Sumiden Wire Products Corp.
A-351-837 | 731-TA-1024 | Prestressed Concrete Steel Wire Strand/Brazil | American Spring Wire Corp. Insteel Wire Products Co. Sivaco Georgia, LLC. Strand Tech Martin, Inc. Sumiden Wire Products Corp.
A-533-828 | 731-TA-1025 | Prestressed Concrete Steel Wire Strand/India | American Spring Wire Corp. Insteel Wire Products Co. Sivaco Georgia, LLC. Strand Tech Martin, Inc. Sumiden Wire Products Corp.
A-580-852 | 731-TA-1026 | Prestressed Concrete Steel Wire Strand/Korea | American Spring Wire Corp. Insteel Wire Products Co. Sivaco Georgia, LLC. Strand Tech Martin, Inc. Sumiden Wire Products Corp.
A-201-831 | 731-TA-1027 | Prestressed Concrete Steel Wire Strand/Mexico | American Spring Wire Corp. Insteel Wire Products Co. Sivaco Georgia, LLC. Strand Tech Martin, Inc. Sumiden Wire Products Corp.
A-549-820 | 731-TA-1028 | Prestressed Concrete Steel Wire Strand/Thailand | American Spring Wire Corp. Insteel Wire Products Co. Sivaco Georgia, LLC. Strand Tech Martin, Inc. Sumiden Wire Products Corp.
A-588-854 | 731-TA-860 | Tin-mill products/Japan | Weirton Steel. Independent Steelworkers. United Steelworkers of America.

[FR Doc. 04-12187 Filed 6-1-04; 8:45 am]

BILLING CODE 4820-02-P